NATIONAL ARCHIVES AND RECORDS ADMINISTRATION

[NARA-2014-008]

Privacy Act of 1974; Notice of Republication and Alteration of Systems of Records Notices (SORNs)

AGENCY: National Archives and Records Administration (NARA).

ACTION: Republication of Systems of Records Notices (SORNs).

SUMMARY: The National Archives and Records Administration (NARA) has reviewed its systems of records and its SORNs, in compliance with the provisions of the Privacy Act of 1974, as amended (5 U.S.C. 552(a)(e)(4)), and OMB Circular A-130, Appendix I. NARA is publishing this notice of proposed changes to its SORNs, and republishing the 41 SORNs in its existing inventory. NARA proposes corrective and administrative changes to reflect a recent agency reorganization. NARA is also removing two SORNs, NARA 29, State Historical Records Advisory Board Members Files, and NARA 38, Project Management Records, for systems that no longer contain Privacy Act-protected information; NARA 10 was deleted during an earlier SORN review and remains reserved.

DATES: Comments on the proposed SORNs must be received by January 21, 2014. The proposed changes and republication will become effective without further notice on February 3, 2014, unless a superseding notice to the contrary is published before then.

ADDRESSES: You may submit written comments, identified by “NARA-2014-008,” by any of the following methods:

• Federal e-Rulemaking Portal: http://www.regulations.gov. Follow the instructions for submitting comments.

• Email: Regulation_comments@nara.gov. Include “NARA-2014-008” in the subject line of the message.

• Fax: 301-837-0319, Attn: Kimberly Keravuori.

• Mail: Attn: Kimberly Keravuori; Strategy Division (SP), Room 4100, National Archives and Records Administration, 8601 Adelphi Road, College Park, MD 20740-6001.

All submissions must include “NARA-2014-008.” All comments may be posted online without change, including any personal information provided. Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Joe Scanlon, NARA Privacy Act Officer, Room 3110, National Archives and Records Administration, 8601 Adelphi Road, College Park, MD 20740-6001.

SUPPLEMENTARY INFORMATION: One of the purposes of the Privacy Act, as stated in section 2(b)(4) of the Act, is to provide people with certain safeguards against an invasion of privacy when personal information is collected, stored, and used by the Federal government. As a result, the Act requires Federal agencies to ensure that any record of identifiable personal information is current and accurate for its intended use, that adequate safeguards are provided to prevent misuse of such information, and that the information is not shared unless such action is for a necessary and lawful purpose. NARA follows these principles in transferring information to another agency or individual as a “routine use,” including ensuring that the information is relevant for the purposes for which it is transferred.

NARA has 41 systems of records subject to the Privacy Act. This action republishes all of NARA's active SORNs in one location, including the proposed changes, to provide a current, easily-accessible set in one place. All of these SORNs have previously been published in the Federal Register individually. They are available electronically on the Internet at http://www.archives.gov/foia/privacy-program/inventory.html or through a Federal Register search, and on paper from the Privacy Act Officer, Office of General Counsel (NGC), Room 3110, National Archives and Records Administration, 8601 Adelphi Road, College Park, MD 20740-6001.

The notice for each system of records states the name and location of the system, the authority for and manner of its operation, the categories of people it covers, the types of records it contains, the sources of information in these records, and the uses of the information. Each notice also states the location and system manager of the records covered by the system. Appendix A describes common routine uses for information covered by the SORNs. Appendix B sets out the address of the NARA Privacy Act Officer, to whom requests for access to records should be made, and the locations of the system managers. Appendices A and B apply to all the SORNs.

The NARA SORNs, inventory of routine uses, and contact information (appendices A and B), as amended, are published at the end of this notice.

In accordance with 5 U.S.C. 552a(r), NARA has provided a report of these systems of records to the Office of Management and Budget and to Congress.

Dated: December 17, 2013.
David S. Ferriero,
Archivist of the United States.

NARA 1

SYSTEM NAME:

Researcher Application Files.

SYSTEM LOCATION:

Researcher application files are maintained in the following locations:

(1) Office of Research Services;

(2) Individual Presidential libraries;

(3) Presidential Materials Division; and

(4) The Center for Legislative Archives.

CATEGORIES OF INDIVIDUALS COVERED BY THE SYSTEM:

Individuals covered by this system include people who apply to use archival materials for research in NARA facilities.

CATEGORIES OF RECORDS IN THE SYSTEM:

Researcher application files may include: researcher applications; related correspondence; and electronic records. These files may contain the following information about an individual: Name; address; telephone number; proposed research topic(s); occupation; name, email address, and mailing address of employer/institutional affiliation; educational level and major field of study; expected result(s) of research; photo; researcher card number; type of records used; and other information furnished by the individual. Electronic systems may also contain additional information related to the application process.

AUTHORITY FOR MAINTENANCE OF THE SYSTEM:

44 U.S.C. 2108, 2111 note, and 2203(f)(1).

PURPOSE(S):

The information in this system is used to register researchers who wish to gain access to archival materials; to assist NARA in maintaining intellectual control over archival holdings and to refer related information to the Office of Inspector General if archival materials are determined to be missing or mutilated; to disseminate information related to events and programs of interest to NARA's researchers as appropriate; to facilitate access to wireless internet in NARA facilities; and to measure customer satisfaction with NARA services. Aggregate information from this system may be used for the purposes of review, analysis, planning, and policy formulation related to customer service staffing and facility needs.

ROUTINE USES OF RECORDS MAINTAINED IN THE SYSTEM, INCLUDING CATEGORIES OF USERS AND THE PURPOSES OF SUCH USES:

NARA maintains researcher application files on people to: Register people who apply to use archival materials for research at a NARA facility; register people for wireless internet access; record initial research interests of researchers; determine which archival materials researchers may want to use; contact researchers if additional information related to their research interest is found or if problems with the requested archival materials are discovered; and prepare mailing lists for sending notices of events and programs of interest to researchers (including the fundraising and related activities of NARA-associated foundations and invitations to participate in voluntary customer satisfaction surveys), unless individuals elect that their application information not be used for this purpose. The electronic databases serve as finding aids to the applications. Information in the system is also used by NARA staff to compile statistical and other aggregate reports regarding researcher use of records. The routine use statements A, C, E, F, G, and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in the records may be retrieved by the individual's name, researcher card number, or any of the fields in the researcher registration database.

SAFEGUARDS:

During normal hours of operation, paper records are maintained in areas accessible to authorized NARA personnel. Electronic records are accessible via password-protected workstations located in attended offices or through a secure remote access network. After hours, buildings have security guards and/or secured doors, and all entrances are monitored by electronic surveillance equipment.

RETENTION AND DISPOSAL:

Researcher application files are temporary records and are destroyed in accordance with the disposition instructions in the NARA Records Schedule (a supplement to the NARA Files Maintenance and Records Disposition Manual). Individuals may request a copy of the disposition instructions from the NARA Privacy Act Officer (at the address listed in Appendix B).

SYSTEM MANAGER(S) AND ADDRESS:

The system managers for researcher application files are:

1. For researchers who apply to use records or archival materials in a Presidential library: The director of the individual Presidential library;

2. For researchers who apply to use records or archival materials in the Presidential Materials Division: Director, Presidential Materials Division;

3. For researchers who apply to use records or archival materials in the Center for Legislative Archives: Director, Center for Legislative Archives; and

4. For researchers who apply to use records or archival materials in any other facility: Executive for Research Services.

The business addresses for these system managers are listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in researcher application files is obtained from researchers and from NARA employees who maintain the files.

NARA 2

SYSTEM NAME:

Reference Request Files.

SYSTEM LOCATION:

Reference request files are maintained in the following locations:

(1) Office of Research Services;

(2) Individual Presidential libraries;

(3) Presidential Materials Division; and

(4) Center for Legislative Archives.

CATEGORIES OF INDIVIDUALS COVERED BY THE SYSTEM:

Individuals covered by this system include people who request information from, or access to, records or archival materials in archival custodial units.

CATEGORIES OF RECORDS IN THE SYSTEM:

Reference request files may include: Reference service slips; reference service databases; correspondence control registers and databases; and correspondence, including administrative forms used for routine inquiries and replies, between NARA staff and researchers. These files may contain some or all of the following information about an individual: Name; address; telephone number; email address; position title; name of employer/institutional affiliation; educational background; research topic(s); field(s) of interest; identification of requested records; credit card or purchase order information; and other information furnished by the researcher.

AUTHORITY FOR MAINTENANCE OF THE SYSTEM:

44 U.S.C. 2108, 2111 note, 2203(f)(2), and 2907.

ROUTINE USES OF RECORDS MAINTAINED IN THE SYSTEM, INCLUDING CATEGORIES OF USERS AND THE PURPOSES OF SUCH USES:

NARA maintains reference request files on individuals to: Maintain control of records and archival materials being used in a research room; establish researcher accountability for records and archival materials; prepare replies to researchers' reference questions; record the status of researchers' requests and NARA replies to those requests; enable future contact with researchers, if necessary; and facilitate the preparation of statistical and other aggregate reports on researcher use of records.

The routine use statements A, C, E, F, G, and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in reference request files may be retrieved by: The individual's name; the request date; the record group number; collection/series title; or the name, social security number, or military service number of the former civilian employee/veteran whose record was the subject of the request.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Reference request files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system managers for reference request files are:

1. For files located in a Presidential library: Director of the individual Presidential library;

2. For files located in the Presidential Materials Division: Director of the Presidential Materials Division;

3. For files located in the Center for Legislative Archives: Director of the Center for Legislative Archives;

4. For files located in the National Historical Publications and Records Commission: Executive Director, National Historical Publications and Records Commission; and

5. For all other reference request files: Executive for Research Services.

The business addresses for these system managers are listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in reference request files is obtained from researchers and from NARA employees who maintain the files.

NARA 3

SYSTEM NAME:

Donors of Historical Materials Files.

SYSTEM LOCATION:

Donors of historical materials files are maintained in the following locations:

(1) Office of Research Services;

(2) Individual Presidential libraries;

(3) Presidential Materials Division;

(4) Center for Legislative Archives; and

(5) Office of Strategy and Communications (NARA Historian).

CATEGORIES OF INDIVIDUALS COVERED BY THE SYSTEM:

Individuals covered by this system include donors and potential donors of historical materials and oral history interviews to the National Archives.

CATEGORIES OF RECORDS IN THE SYSTEM:

Categories of records in this system may include: Correspondence; deeds of gift; deposit agreements; accession files; accession cards; accession logs; inventories of museum objects; and oral history use agreements, all of which are related to the solicitation and preservation of donations and oral history interviews. These files may contain the following information about an individual: Name; address; telephone number; occupation; and other biographical data as it relates to the solicitation and donation of historical materials and oral history interviews.

AUTHORITY FOR MAINTENANCE OF THE SYSTEM:

44 U.S.C. 2111 and 2112.

ROUTINE USES OF RECORDS MAINTAINED IN THE SYSTEM, INCLUDING CATEGORIES OF USERS AND THE PURPOSES OF SUCH USES:

NARA maintains donors of historical materials files on people to: Record deeds of gift and oral history use agreements; administer the solicitation of, accessioning of, and access to, historical materials; maintain control over the accessions program; and facilitate future solicitations of gifts. NARA may disclose these records to other Federal agencies and former presidents and their agents as NARA administers the access provisions of a deed of gift. The routine use statements A, F, G, and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in donors of historical materials files may be retrieved by the individual's name or by the accession number assigned to the donation, or the database containing this information may searched via keyword or on any of the fields mentioned above.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Some donor and historical materials files are permanent records and are transferred to the National Archives of the United States in accordance with the disposition instructions in the NARA Records Schedule (a supplement to the NARA Files Maintenance and Records Disposition Manual). Other files have temporary dispositions and are destroyed in accordance with the instructions in the NARA Records Schedule. Individuals may request a copy of the disposition instructions from the NARA Privacy Act Officer.

SYSTEM MANAGER(S) AND ADDRESS:

The system managers for donors of historical materials files are:

1. For files located in organizational units in the Office of Research Services: Executive for Research Services;

2. For files located in a Presidential library: The director of the individual library;

3. For files located in the Presidential Materials Division: Director, Presidential Materials Division;

4. For files located in the Center for Legislative Archives: Director of the Center for Legislative Archives; and

5. For files located in the NARA Historian's office: Chief Strategy and Communications Officer.

The business addresses for these system managers are listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in donors of historical materials files may be obtained from: Donors; potential donors; NARA employees who maintain the files and handle solicitations, donations of historical materials, and oral history interviews; associates and family members of donors; associates of former presidents; and published sources.

NARA 4

SYSTEM NAME:

Committee and Foundation Member Files.

SYSTEM LOCATION:

Committee and foundation member files are maintained in the following locations:

(1) Strategy and Communications Office;

(2) Individual Presidential libraries;

(3) Center for Legislative Archives;

(4) Office of Research Services;

(5) Office of Agency Services; and

(6) Committee member files may be maintained in NARA organizational units that provide administrative support to, or oversight of, internal and inter-agency committees, external standards-setting and professional organizations, and NARA's Federal advisory committees.

CATEGORIES OF INDIVIDUALS COVERED BY THE SYSTEM:

Individuals covered by this system include NARA employees who serve on committees and current and prospective members of NARA's Federal advisory committees, the National Archives Foundation, and foundations associated with the Presidential libraries.

CATEGORIES OF RECORDS IN THE SYSTEM:

Committee and foundation member files may include: Correspondence; resumes; biographical statements; mailing lists; and travel documents. These files may contain the following information about an individual: Name; address; telephone number; NARA correspondence symbol; educational background; employment history; list of professional accomplishments and awards, titles of publications; and other information furnished by the individual.

AUTHORITY FOR MAINTENANCE OF THE SYSTEM:

44 U.S.C. 2104.

ROUTINE USES OF RECORDS MAINTAINED IN THE SYSTEM, INCLUDING CATEGORIES OF USERS AND THE PURPOSES OF SUCH USES:

NARA maintains committee member files to: Review professional qualifications of prospective committee members; document committee members' travel activities related to committee business; record the participation of committee members in committee activities; and contact members about future meetings and events. NARA maintains foundation member files in order to contact members about meetings, conferences, and special events. The routine use statements A, F, G, and H described in Appendix A, also apply to this system of records.

POLICIES AND PRACTICES FOR STORING, RETRIEVING, ACCESSING, RETAINING, AND DISPOSING OF RECORDS IN THE SYSTEM:

STORAGE:

Paper and electronic records.

RETRIEVABILITY:

Information in committee and foundation member files may be retrieved by the individual's name or by the committee or foundation's name.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Some committee member files are permanent records and are transferred to the National Archives of the United States in accordance with the disposition instructions in the NARA Records Schedule (a supplement to the NARA Files Maintenance and Records Disposition Manual). Other committee and foundation member files have temporary dispositions and are destroyed in accordance with the instructions in the NARA Records Schedule. Individuals may request a copy of the disposition instructions from the NARA Privacy Act Officer.

SYSTEM MANAGER(S) AND ADDRESS:

The system managers for committee and foundation member files are:

1. For Advisory Committee on Presidential Library-Foundation Partnerships member files: Director of the Office of Presidential Libraries;

2. For Advisory Committee on the Records of Congress member files: Director of the Center for Legislative Archives;

3. For Founding Fathers Advisory Committee member files: Executive Director of National Historic Publications and Records Commission (NHPRC);

4. For National Industrial Security Program Policy Advisory Committee member files and State, Local, Tribal, and Private Sector Policy Advisory Committee member files: Executive for Agency Services;

5. For Foundation for the National Archives member files and for other committee member files: Chief Strategy and Communications Officer; and

6. For working group member files: Executive for Research Services.

The business addresses for these system managers are listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in committee, working group, and foundation member files is obtained from NARA employees, current and prospective members of Federal advisory committees, working groups, foundations, and references furnished by such people.

NARA 5

SYSTEM NAME:

Conference, Workshop, and Training Course Files.

SYSTEM LOCATION:

Conference, workshop, and training course files may be maintained in the following locations:

(1) Office of Human Capital;

(2) Office of Research Services;

(3) Office of Strategy and Communications;

(4) Office of Agency Services;

(5) Office of Business Support Services;

(6) Individual Presidential libraries; and

(7) Center for Legislative Archives, Exhibits Division, and Education and Public Programs Division.

CATEGORIES OF INDIVIDUALS COVERED BY THE SYSTEM:

Individuals covered by this system include attendees and speakers at NARA-sponsored conferences, workshops, and training courses.

CATEGORIES OF RECORDS IN THE SYSTEM:

Conference, workshop, and training course files maintained on attendees may include: Standard Form 182, Request, Authorization, Agreement, and Certification of Training; application/registration forms; evaluations; other administrative forms; and copies of payment records. Files maintained on speakers may include correspondence; biographical statements; and resumes. These files may contain some or all of the following information about an individual: Name; home address; business address; home and/or business email address; home telephone number; business telephone number; social security number; birth date; position title; name of employer/organization; employment history; professional awards; areas of expertise; research interests; reason(s) for attendance; titles of publications; and other information furnished by the attendee or speaker.

AUTHORITY FOR MAINTENANCE OF THE SYSTEM:

44 U.S.C. 2104, 2109, and 2904

ROUTINE USES OF RECORDS MAINTAINED IN THE SYSTEM, INCLUDING CATEGORIES OF USERS AND THE PURPOSES OF SUCH USES:

NARA maintains files on attendees and speakers to: Register attendees for conferences, workshops, training courses, and other events; contact attendees for follow-up discussions; plan, publicize, and document interest in current and future NARA-sponsored conferences, workshops, training courses, and special events; and prepare mailing lists in order to disseminate information on future events and publications of related interest. Information in the records is also used to prepare statistical and other reports on conferences, workshops, training courses, and other events sponsored by NARA.

NARA may disclose information on individuals in the files to other attendees, to the public, and to outside organizations that co-sponsor conferences, workshops, training courses, and other events for purposes of administering the course or event, providing attendance lists, and contacting individuals after the event. NARA may disclose information on an individual to the organization or agency that funded the individual's attendance. The routine use statements F and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in paper records may be retrieved by either the title or the date of the conference, workshop, training course, or event, and in some cases, by the individual's name. Information in electronic records may be retrieved by the individual's name, date of the event, or by searching other categories of the information provided.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Some of the conference, workshop, and training course files are permanent records and are transferred to the National Archives of the United States in accordance with the disposition instructions in the NARA Records Schedule (a supplement to the NARA Files Maintenance and Records Disposition Manual). Other files have temporary dispositions and are destroyed in accordance with the instructions in the NARA Records Schedule. Individuals may request a copy of the disposition instructions from the NARA Privacy Act Officer.

SYSTEM MANAGER(S) AND ADDRESS:

The system managers for conference, workshop, and training course files are:

1. For files located in the Office of Research Services: Executive for Research Services;

2. For files located in the Office of Agency Services: Executive for Agency Services;

3. For files located in the Strategy and Communications Office: Chief Strategy and Communications Officer;

4. For files maintained in NARA's electronic Learning Management System: Chief Human Capital Officer;

5. For files located in the Office of Business Support Services: Executive for Business Support Services;

6. For files located in a Presidential library: Director of the individual Presidential library; and

7. For files located in the Center for Legislative Archives, Exhibits Division, and Education and Public Programs Division: Executive for Legislative Archives, Presidential Libraries, and Museum Services.

The business addresses for these system managers are listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in the files may be obtained from speakers, attendees, and potential speakers and attendees at NARA-sponsored conferences, workshops, and training courses, and from references provided by those individuals.

NARA 6

SYSTEM NAME:

Mailing List Files.

SYSTEM LOCATION:

Mailing list files may be maintained in the following NARA locations:

(1) National Historical Publications and Records Commission;

(2) Office of Human Capital;

(3) Office of Business Support Services;

(4) Office of Legislative Archives, Presidential Libraries, and Museum Services;

(5) Individual Presidential libraries;

(6) Center for Legislative Archives;

(7) Office of Research Services;

(8) Office of Agency Services; and

(9) Office of the Federal Register.

CATEGORIES OF INDIVIDUALS COVERED BY THE SYSTEM:

Individuals covered by this system may include: Members of the media; members of Congress; members of the National Historical Publications and Records Commission; members of the Foundation for the National Archives; members of a Federal advisory committee or advisory board; members of a private local support foundation for a Presidential library; volunteers; local, political, and other dignitaries; researchers and records managers; historians, archivists, librarians, documentary editors, and other professionals in related fields; educators; authors; subscribers to free and fee publications and newsletters; buyers of NARA products; vendors; and other persons with an interest in National Archives programs, exhibits, conferences, training courses, and other events.

CATEGORIES OF RECORDS IN THE SYSTEM:

In addition to names and addresses, mailing lists may include any of the following information about an individual: home/business telephone number; Home/business email address; position title; name of employer; organization; and/or institutional affiliation; events attended; and subscription information.

AUTHORITY FOR MAINTENANCE OF THE SYSTEM:

44 U.S.C. 2104, 2307 and 2904(c).

ROUTINE USES OF RECORDS MAINTAINED IN THE SYSTEM, INCLUDING CATEGORIES OF USERS AND THE PURPOSES OF SUCH USES:

NARA maintains mailing lists to: disseminate electronic and regular mailings of NARA publications, newsletters, press releases, and announcements of meetings, conferences, workshops, training courses, public and educational programs, special events, and procurements; send invitations for exhibit openings, lectures, and other special events; and send customers updated information about NARA holdings and about methods of requesting copies of accessioned and non-current records. The routine use statements F and H, described in Appendix A, also apply to this system of records.

POLICIES AND PRACTICES FOR STORING, RETRIEVING, ACCESSING, RETAINING, AND DISPOSING OF RECORDS IN THE SYSTEM:

STORAGE:

Electronic records from which paper records may be printed.

RETRIEVABILITY:

Information about individuals maintained in mailing lists may be retrieved by: The individual's name; an employer or institutional/organizational affiliation name; the individuals/organizations category on mailing lists; the city or zip code; or by any other of the other categories of information that the individual provided.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

When maintained for programs and functions for which the records have been scheduled, mailing lists are categorized as temporary records and are destroyed in accordance with the instructions in the NARA Records Schedule (a supplement to the NARA Files Maintenance and Records Disposition Manual). Organizational units update these lists and purge outdated information as needed for the purposes previously cited. For those programs and functions for which mailing lists and all other records have not yet been scheduled, NARA is in the process of identifying and scheduling these records. Individuals may request a copy of the disposition instructions from the NARA Privacy Act Officer.

SYSTEM MANAGER(S) AND ADDRESS:

The system managers for mailing list files are:

(1) For files located at the National Historical Publications and Records Commission: Executive Director, National Historical Publications and Records Commission;

(2) For files located in the Human Capital Office: Chief Human Capital Officer;

(3) For files located in the Office of Business Support Services: Executive for Business Support Services;

(4) For files located in the Office of Legislative Archives, Presidential Libraries, and Museum Services: Executive for Legislative Archives, Presidential Libraries, and Museum Services;

(5) For files located at a Presidential library: director of the individual library;

(6) For files located at the Center for Legislative Archives: Director of the Center for Legislative Archives;

(7) For files located in the Office of Research Services: Executive for Research Services;

(8) For files located in the Office of Agency Services: Executive for Agency Services; and

(9) For files located at the Office of the Federal Register: Director of the Federal Register.

The business addresses for these system managers are listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in mailing lists is obtained from individuals whose names are recorded on mailing lists for the purposes previously cited or from NARA employees who maintain the lists.

NARA 7

SYSTEM NAME:

Freedom of Information Act (FOIA) and Mandatory Review of Classified Documents Request Files.

SYSTEM LOCATION:

Freedom of Information Act (FOIA) and mandatory review request files are maintained in the following locations:

(1) Office of the Federal Register;

(2) Office of the Inspector General;

(3) Office of General Counsel;

(4) Office of Research Services;

(5) Office of Agency Services;

(6) Individual Presidential libraries;

(7) Presidential Materials Division; and

(8) Center for Legislative Archives.

CATEGORIES OF INDIVIDUALS COVERED BY THE SYSTEM:

Individuals covered by this system include people who cite the FOIA to request access to records and people who request the mandatory review of security-classified materials under Executive Order 13526 or predecessor orders.

CATEGORIES OF RECORDS IN THE SYSTEM:

Files for requests made under the FOIA and the mandatory review provisions of Executive Order 13526 (or predecessor orders) may include: correspondence control registers, logs, and databases; requests for access or mandatory review; appeal letters from requestors; NARA replies to original requests and appeals, and supporting documents; Certificates of Citizenship; and other administrative forms used in the process. These files may also contain information or determinations furnished by, and correspondence with, other Federal agencies. FOIA and mandatory review request files may contain some or all of the following information about an individual: name; address; telephone number; position title; name of employer/institutional affiliation; marital status; birthplace; birth date; citizenship; research interests; other information provided by the requestor; and copies of documents furnished to the requestor.

AUTHORITY FOR MAINTENANCE OF THE SYSTEM:

Executive Order 13526 and its predecessor and successor orders governing access to national security classified information; and 5 U.S.C. 552, as amended

ROUTINE USES OF RECORDS MAINTAINED IN THE SYSTEM, INCLUDING CATEGORIES OF USERS AND THE PURPOSES OF SUCH USES:

NARA maintains FOIA and mandatory review request files on individuals to record: requests for records under the FOIA; requests for access to security-classified materials under the mandatory review provisions of Executive Order 13526, as amended, and predecessor orders, and appeals of denials of access; actions taken on requests and appeals; and the status of requests and appeals in logs and databases. The records are also used to facilitate the preparation of statistical and other reports regarding use of the FOIA and the mandatory review provisions of Executive Order 13526.

NARA may disclose information in request files to agencies that have equity in the requested records in order for those agencies to review records for possible declassification and release or in response to a request for information. The routine use statements A, E, F, G, and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in FOIA and mandatory review request files may be retrieved by one or more of the following data elements: the individual's name; an alphanumeric case file number; a project number assigned to the request; the record group number; collection/series title, the type of request (FOIA or mandatory review); or the name, social security number, or military service number of the former civilian employee/veteran whose record was the subject of the request at the National Personnel Records Center.

SAFEGUARDS:

During business hours, paper records are maintained in areas accessible to authorized NARA personnel. Electronic records are accessible via identity authentication at workstations located in attended offices or through a secure remote access network. After business hours, buildings have security guards and/or secured doors, and all entrances are monitored by electronic surveillance equipment.

RETENTION AND DISPOSAL:

Some of the FOIA and mandatory review of classified documents request files are permanent records and are transferred to NARA in accordance with the disposition instructions in the NARA Records Schedule (a supplement to the NARA Files Maintenance and Records Disposition Manual). Other files have temporary dispositions and are destroyed in accordance with the instructions in the NARA Records Schedule. Individuals may request a copy of the disposition instructions from the NARA Privacy Act Officer.

SYSTEM MANAGER(S) AND ADDRESS:

For FOIA and mandatory review request files, the system managers are:

(1) For FOIA request files maintained by the Office of Federal Register: Director of the Federal Register;

(2) For FOIA request files maintained by the Office of the Inspector General: Inspector General;

(3) For FOIA request files for NARA's operational records: General Counsel;

(4) For FOIA and mandatory review request files maintained by organizational units within the Office of Research Services: Executive for Research Services;

(5) For FOIA request files pertaining to non-accessioned military and civilian personnel records located at the National Personnel Records Center (within the Office of Agency Services) records: Director of the National Personnel Records Center;

(6) For FOIA request files pertaining to accessioned military personnel records located at the National Archives at St. Louis (within the Office of Research Services): Access Coordinator, National Archives at St, Louis;

(7) For FOIA and mandatory review request files maintained by individual Presidential libraries: director of the individual library;

(8) For FOIA and mandatory review request files maintained by the Presidential Materials Division: Director of the Presidential Materials Division; and

(9) For FOIA and mandatory review request files maintained by the Center for Legislative Archives: Director of the Center for Legislative Archives.

The business addresses for these system managers are listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in FOIA and mandatory review request files is obtained from people who cite the FOIA to request access to records; researchers who request mandatory review of security-classified records; NARA employees who maintain the files and handle FOIA and mandatory review requests and appeals; and other agencies that have reviewed the requested records.

NARA 8

SYSTEM NAME:

Restricted and Classified Records Access Authorization Files.

SYSTEM LOCATION:

Restricted and classified records access authorization files are maintained in the following locations:

(1) Office of Business Support Services (Security Management Division);

(2) Office of Research Services;

(3) Individual Presidential libraries;

(4) Presidential Materials Division;

(5) Center for Legislative Archives; and

(6) Office of General Counsel.

CATEGORIES OF INDIVIDUALS COVERED BY THE SYSTEM:

Individuals covered by the system include people who ask to use agency-restricted, donor-restricted, and security-classified records or materials in the custody of organizational units located in the Washington, DC, area, Presidential libraries, and archival custodial units located in the field. This includes records requested for the purpose of conducting statistical, social science, or biomedical research in accordance with 36 CFR 1256.

CATEGORIES OF RECORDS IN THE SYSTEM:

Access authorization files include: applications for access to restricted and classified records; letters of authorization from sponsoring agencies; other documentation related to security clearance levels; and information in an electronic database. These files may include some or all of the following information about an individual: name; address; telephone number; birth date; birthplace; citizenship; Social Security number; occupation; name of employer/institutional affiliation; security clearance level; basis of clearance; name of sponsoring agency; field(s) of interest; intention to publish; type of publication; subject(s) of restricted or classified records to be reviewed; the expiration date for authorization to review the records; and other information furnished by the requestor, including reference letters that may contain identifying information concerning a third party.

AUTHORITY FOR MAINTENANCE OF THE SYSTEM:

44 U.S.C. 2108 and 2204

ROUTINE USES OF RECORDS MAINTAINED IN THE SYSTEM, INCLUDING CATEGORIES OF USERS AND THE PURPOSES OF SUCH USES:

NARA maintains restricted and classified records access authorization files on individuals to: maintain a record of requests for access to restricted and classified records; authorize and control access to restricted and classified records and materials; and facilitate preparation of statistical and other reports.

NARA may disclose information in these access authorization files to other agencies that have equity in the restricted or classified records in order for agency officials to review access authorization requests. The routine use statements A, F, G, and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in restricted and classified records access authorization files may be retrieved by some or all of the following: the individual's name; the sponsoring agency's names; record group number; or collection title.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Restricted and classified records access authorization files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

For restricted and classified records access authorization files the system managers are:

(1) For files maintained by the Security Management Division: Executive for Business Support Services;

(2) For files maintained by organizational units within the Office of Research Services: Executive for Research Services;

(3) For files maintained by a Presidential library: director of the individual library;

(4) For files maintained by the Presidential Materials Division: Director of the Presidential Materials Division;

(5) For files maintained by the Center for Legislative Archives: Director of the Center for Legislative Archives; and

(6) For files located in the Office of General Counsel: General Counsel.

The business addresses for these system managers are listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in these files is obtained from people who request to use restricted and classified records; NARA employees who maintain the files; employers of requestors; and sponsoring agency officials.

NARA 9

SYSTEM NAME:

Authors' Files.

SYSTEM LOCATION:

Authors' files are maintained in the Office of Strategy and Communications (Communications and Marketing Division).

CATEGORIES OF INDIVIDUALS COVERED BY THE SYSTEM:

Individuals covered by this system include authors who have submitted manuscripts for publication in Prologue: Quarterly of the National Archives or in other NARA publications.

CATEGORIES OF RECORDS IN THE SYSTEM:

Files on authors may include: correspondence; resumes; biographical statements; and manuscript copies of articles. These records may contain some or all of the following information about an individual: name; address; telephone number; educational background; professional experience and awards; research interests; and titles of previous publications.

AUTHORITY FOR MAINTENANCE OF THE SYSTEM:

44 U.S.C. 2307

ROUTINE USES OF RECORDS MAINTAINED IN THE SYSTEM, INCLUDING CATEGORIES OF USERS AND THE PURPOSES OF SUCH USES:

NARA maintains files on individual authors in order to: select authors' manuscripts for publishing in Prologue: Quarterly of the National Archives or in other NARA publications; maintain a record of authors' manuscripts; contact authors concerning re-publication of manuscripts; and other related issues. The routine use statement F and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in authors' files may be retrieved by the publication's issue date and then by the individual's name.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Authors' files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system manager is the Chief Strategy and Communications Officer. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in authors' files is obtained from authors or their agents.

NARA 10 [RESERVED]

NARA 11

SYSTEM NAME:

Credentials and Passes.

SYSTEM LOCATION:

Records related to credentials and passes are maintained at the following locations:

(1) Office of Business Support Services (Security Management Division and Field Support Management Division);

(2) Office of the Federal Register;

(3) Individual Presidential libraries;

(4) Washington National Records Center;

(5) National Personnel Records Center; and

(6) NARA Continuity Facility.

CATEGORIES OF INDIVIDUALS COVERED BY THE SYSTEM:

Individuals covered by this system may include: NARA employees, volunteers, and contractors at all NARA facilities; and employees or contractors of other federal agencies temporarily stationed at NARA.

CATEGORIES OF RECORDS IN THE SYSTEM:

Credentials and passes may include: copies of official passport records; copies of identification badges; and administrative forms and information in electronic databases used to generate NARA identification badges and access cards and to issue room and stack area keys and parking space permits. Credentials and passes may contain some or all of the following information about an individual:

1. Official passport records: copies of passport application records which include: name; photograph; name of agency (NARA); address; telephone number; Social Security number; position title; grade; birth date; height; weight; color of hair and eyes; passport number; passport issue and expiration dates;

2. Copies of identification badges and administrative forms and information in electronic databases used to generate NARA identification badges and access cards: name; photograph; NARA correspondence symbol; office telephone number; Social Security number; position title; grade; name of agency or firm (contractors only); birth date; height; weight; color of hair and eyes; identification/access card number; card issue and expiration dates; building locations, time zones, and reasons for required access; signatures of the individual and authorized officials; and dates of signatures;

3. Administrative forms and information in electronic databases used to issue room and stack area keys: name; NARA correspondence symbol; office telephone number; building room number/stack area; type of key issued (single door or stack master); key tag number; signatures of the individual and authorized official; and dates of signatures; and

4. Administrative forms and electronic database used to control parking locations: name; address; office telephone number; name of agency; make, year, and license number of vehicle; signatures of carpool members; and dates of signatures.

AUTHORITY FOR MAINTENANCE OF THE SYSTEM:

44 U.S.C. 2104

ROUTINE USES OF RECORDS MAINTAINED IN THE SYSTEM, INCLUDING CATEGORIES OF USERS AND THE PURPOSES OF SUCH USES:

NARA maintains records on individuals to facilitate issuing and controlling Government passports, NARA identification badges, access cards, room and stack area keys, and parking space permits. At the National Archives at College Park, information in an electronic database is used to generate single badges that identify individuals and electronically allow individuals to enter and exit secured and non-secured areas of the building. Routine use statements A, B, C, D, E, F, G, and H, described in Appendix A, also apply to this system of records.

STORAGE:

Paper and electronic records.

RETRIEVABILITY:

Information in credentials and passes may be retrieved by the individual's name, identification card number, and/or social security number.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Credentials and passes are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system managers for the following types of credentials and passes are:

1. For official passport records: Executive for Business Support Services;

2. For records used for NARA employee and volunteer identification badges and access cards in the Washington, DC, area, and for records used for contractor identification badges and access cards, key issuance, and parking control at the National Archives Building and the National Archives at College Park: Executive for Business Support Services;

3. For records used for NARA contractor identification badges and access cards, key issuance, and parking control at the Washington National Records Center: Director, Washington National Records Center;

4. For records used for key issuance and parking control at the Office of the Federal Register: Director of the Federal Register;

5. For records used for NARA identification badges and access cards, key issuance, and parking control at the National Personnel Records Center: Director of the National Personnel Records Center;

6. For records used for NARA identification badges and access cards, key issuance, and parking control at a Presidential library: director of individual library;

7. For records used for NARA identification badges and access cards, key issuance, and parking control at the NARA Continuity Facility: Executive for Business Support Services; and

8. For records used for NARA identification badges and access cards, key issuance, and parking control at all other NARA facilities: Executive for Business Support Services.

The business addresses for these system managers are listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in credentials and passes is obtained from individuals being issued credentials and passes from authorized issuing officials.

NARA 12

SYSTEM NAME:

Emergency Notification Files and Employee Contact Information.

SYSTEM LOCATION:

Records related to emergency notification and employee contact information files are maintained at the following locations:

(1) Emergency notification lists and NARA field operations emergency facility contact lists are maintained in the Office of Business Support Services (Security Management Division) at the National Archives at College Park;

(2) Local emergency notification files are maintained in all NARA facilities nationwide; and

(3) Other personal contact information for employees may be maintained by supervisors at all NARA facilities and in NARA's employee locator database.

CATEGORIES OF INDIVIDUALS COVERED BY THE SYSTEM:

Individuals covered by this system include NARA employees who have provided personal contact information to NARA to enable continuity of operations planning, to access systems remotely, or to receive updates from the agency in the event of an unexpected closure.

CATEGORIES OF RECORDS IN THE SYSTEM:

Emergency notification files include: lists of names of NARA officials; cover memoranda; and administrative forms. These files may contain some or all of the following information about an individual: name; correspondence symbol or organization code; home address; business, home, and cellular telephone numbers; business and personal email addresses; position title; and emergency assignments.

AUTHORITY FOR MAINTENANCE OF THE SYSTEM:

44 U.S.C. 2104

ROUTINE USES OF RECORDS MAINTAINED IN THE SYSTEM, INCLUDING CATEGORIES OF USERS AND THE PURPOSES OF SUCH USES:

NARA maintains current directory information on designated NARA employees to contact outside of business hours in case of emergencies involving NARA facilities, including records storage areas, and to notify these employees of emergencies that would result in the closing of government offices. The routine use statements A, D, F, and H, described in Appendix A, also apply to this system of records.

NARA also maintains this information to allow employees to more easily access NARA's information management and technology systems remotely by having a one-time use PIN number sent to them at a phone or email address they have provided.

POLICIES AND PRACTICES FOR STORING, RETRIEVING, ACCESSING, RETAINING, AND DISPOSING OF RECORDS IN THE SYSTEM:

STORAGE:

Paper and electronic records maintained in NARA's employee locator, identity management systems, and by supervisors within the agency.

RETRIEVABILITY:

Information in emergency notification files may be retrieved by the individual's name, facility, or office.

SAFEGUARDS:

During business hours, paper records are maintained in areas accessible to authorized NARA personnel. Electronic records are accessible via password-protected workstations located in attended offices or through a secure remote access network. After business hours, buildings have security guards and/or secured doors, and all entrances are monitored by electronic surveillance equipment. Authorized individuals may maintain copies in additional locations.

RETENTION AND DISPOSAL:

Emergency notification files are unscheduled records and, therefore, are retained until the Archivist of the United States approves dispositions. NARA is in the process of scheduling emergency notification records.

SYSTEM MANAGER(S) AND ADDRESS:

The system managers for emergency notification and employee contact information files are:

1. For NARA-wide and Washington, DC,-area emergency or after-hours notification lists: Executive for Business Support Services;

2. For local emergency notification and other employee personal contact information files: all executives and staff directors, supervisors, and field support officers in all NARA facilities; and

3. For remote access information for NARA's information management and technology systems: Executive for Information Services.

The business addresses for these system managers are listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in emergency notification files is obtained from the NARA employees whose names appear on emergency notification lists and forms.

NARA 13

SYSTEM NAME:

Records of Defunct Agencies.

SYSTEM LOCATION:

Records of defunct agencies may be located in the Washington, DC area or at Federal Records Centers nationwide.

CATEGORIES OF INDIVIDUALS COVERED BY THE SYSTEM:

Individuals covered by this system include employees of a defunct agency and those people who may have had dealings with the agency prior to the agency's termination.

CATEGORIES OF RECORDS IN THE SYSTEM:

This system includes those records of an agency whose existence has been terminated with no successor in function. This system also contains those records that were maintained by a defunct agency in an internal Privacy Act system of records. Categories of personal information maintained on individuals in these records are described in the Privacy Act system notices previously published by the originating agency. Records of defunct agencies that are located in Federal Records Centers may be temporary records or permanent records that have not yet been transferred to the custody of the Archivist of the United States.

AUTHORITY FOR MAINTENANCE OF THE SYSTEM:

44 U.S.C. 2104, 2107, 2108, 2907, 2908, and 3104

ROUTINE USES OF RECORDS MAINTAINED IN THE SYSTEM, INCLUDING CATEGORIES OF USERS AND THE PURPOSES OF SUCH USES:

If records of a defunct agency are unscheduled, NARA may review the records during the appraisal process in order to determine the disposition of the records. NARA may disclose the records, while providing reference service on the records, in accordance with the routine uses in the Privacy Act notices previously published by the defunct agency. The routine use statements A, F, G, and H, described in Appendix A, also apply to this system of records.

POLICIES AND PRACTICES FOR STORING, RETRIEVING, ACCESSING, RETAINING, AND DIS-POSING OF RECORDS IN THE SYSTEM:

STORAGE:

Paper, electronic, and microfilm records.

RETRIEVABILITY:

Information in records of a defunct agency may be retrieved by the name of the individual or by other identifier established by the defunct agency when the records were maintained by that agency.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Records of a defunct agency that are appraised as temporary are destroyed in accordance with the records disposition instructions approved by the Archivist of the United States. Records of a defunct agency that are appraised as permanent are transferred to the National Archives of the United States.

SYSTEM MANAGER(S) AND ADDRESS:

The system manager for records of defunct agencies is the Chief Records Officer. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Upon termination of an agency with no successor in function, the agency transfers its records to NARA's custody. Prior to termination, the agency has described record source categories in its Privacy Act system notices for that agency's records.

NARA 14

SYSTEM NAME:

Payroll, Attendance, Leave, Retirement, Benefits, and Electronic Reporting System Records.

SYSTEM LOCATION:

1. Payroll, attendance, leave, retirement, benefits, and electronic reporting system records for current employees are located in the Office of Human Capital (Labor Employee Relations Benefit Branch) and NARA organizational units nationwide that employ timekeepers;

2. The Interior Business Center (IBC) maintains an electronic record-keeping system for NARA in Denver, CO; and

3. Retired personnel files are located at NARA's National Personnel Records Center (NPRC) in St. Louis, MO.

CATEGORIES OF INDIVIDUALS COVERED BY THE SYSTEM:

Individuals covered by this system include current and former NARA employees.

CATEGORIES OF RECORDS IN THE SYSTEM:

Payroll, attendance, leave, retirement, benefits, and electronic reporting system files may include: Office of Personnel Management (OPM) Form 71, Request for Leave or Approved Absence; GSA Form 873, Annual Attendance Record; NA Form 3004, Intermittent Employees Attendance Record; NA Form 3032A or B, Time and Attendance Log; leave restriction documents; medical and other documentation for Family and Medical Leave Act and voluntary leave transfer program applications; teleworking agreements and supporting documentation; prior government service records and “buy-back” documents; retirement documents; student loan repayment program documents; direct deposit information; other benefits information; various summary materials received in computer printout form; awards information; recruitment, relocation, or retention bonuses; training information; and the electronic system. These paper and electronic records may contain some or all of the following information about an individual: Name; address; correspondence symbol; telephone number; social security number; birth date; position title; grade; hours and location of duty; salary, payroll, related information (e.g., withholding status, voluntary deductions, allotments, financial institution, union dues, taxes, charities, wage garnishments, Flexible Spending Account, Long Term Care Insurance, Thrift Savings Plan, and other benefit information), attendance information, medical diagnoses, treatments, and limitations, payment receipts, government service record verification, and other information provided by the employee. This system does not include the official personnel records maintained by NARA, which are described in the system notices published by the Office of Personnel Management (OPM/GOVT-1 and OPM/GOVT-2).

AUTHORITY FOR MAINTENANCE OF THE SYSTEM:

5 U.S.C. 2101 through 8901 is the authority for the overall system. Executive Order 9397, 26 CFR 31.6011(b)2, and 26 CFR 31.6109-1 contain specific authority for use of social security numbers. Additional authorities: 4 U.S.C. Ch. 63, 5 U.S.C. 83-84, 5 CFR Part 630, and 29 CFR Part 825.

ROUTINE USES OF RECORDS MAINTAINED IN THE SYSTEM, INCLUDING CATEGORIES OF USERS AND THE PURPOSES OF SUCH USES:

NARA and IBC maintain payroll, attendance, leave, retirement, benefits, and electronic reporting system records on individual NARA employees to conduct NARA's fiscal operations for payroll, time and attendance, leave, insurance, tax, retirement, qualifications, and benefits; to prepare related reports to other Federal agencies; and to carry out labor/employee relations and benefits functions.

To the extent necessary, NARA and IBC may disclose information in these records to outside entities as part of grievance proceedings, EEO complaints, adverse actions, and mediation counseling sessions. NARA, IBC, and other NARA agents may disclose information in the files to state unemployment offices in connection with unemployment compensation claims filed by NARA employees, to the Department of Labor for worker's compensation cases; to any Federal, state, or local government entity compiling tax withholding, retirement contributions, or allotments to charities, labor unions, wage garnishments, and other authorized recipients; to the Office of Child Support Enforcement, Administration for Children and Families, Department of Health and Human Services, the Federal Parent Locator System and the Federal Tax Offset System to (a) locate individuals, (b) identify income sources, (c) establish paternity, (d) verify social security numbers or employment, (e) issue, modify, or enforce orders of support, or (f) administer the Federal Earned Income Tax Credit Program; and to a commercial contractor in connection with benefit programs administered by the contractor on NARA's behalf, including, but not limited to, supplemental health, dental, disability, life and other benefit programs. NARA and IBC may disclose information in this system of records to the Office of Management and Budget in connection with the review of private relief legislation. NARA and IBC may disclose information in these records to the Office of Personnel Management for its production of summary descriptive statistics or for related work studies; while published statistics and studies do not contain individual identifiers, the selection of elements of data included in studies may be structured in a way that makes individuals identifiable by inference. The routine use statements A, B, C, D, E, F, G, and H described in Appendix A, also apply to this system of records.

POLICIES AND PRACTICES FOR STORING, RETRIEVING, ACCESSING, RETAINING, AND DISPOSING OF RECORDS IN THE SYSTEM:

STORAGE:

Paper, microfiche, and electronic records.

RETRIEVABILITY:

Information in payroll, attendance, leave, retirement, benefits, and electronic reporting system records may be retrieved by the name of the individual, office, supervisor, or by social security number.

SAFEGUARDS:

During business hours, paper records are maintained in areas accessible to authorized personnel. Electronic records are accessible via password-protected workstations located in attended offices or through a secure remote access network. After business hours, buildings have security guards and/or secured doors, and all entrances are monitored by electronic surveillance equipment. Records maintained by IBC are managed in accordance with government-wide security rules.

RETENTION AND DISPOSAL:

Payroll, attendance, leave, retirement, and benefit paper records are temporary records and are destroyed in accordance with the disposition instructions in the NARA Records Schedule (a supplement to the NARA Files Maintenance and Records Disposition Manual). Electronic records are temporary records whose disposition is governed by the General Records Schedules. Individuals may request a copy of the disposition instructions from the NARA Privacy Act Officer.

SYSTEM MANAGER(S) AND ADDRESS:

The system managers for payroll, attendance, leave, retirement, benefits, and electronic reporting system records are:

1. For Washington, DC,-area employees: executives and staff directors of individual offices and staffs;

2. For Presidential library employees: director of the individual library;

3. For Federal Records Center employees and Research Services employees outside the Washington, DC, area, and for unemployment compensation records: Executive for Business Support Services;

4. For Office of the Chief Records Officer employees outside the Washington, DC, area: Chief Records Officer; and

5. For records located in the Office of Human Capital (Labor/Employee Relations and Benefit Branch): Chief Human Capital Officer.

The business addresses for these system managers are listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in payroll and time and attendance reporting system records is obtained from: current and former NARA employees themselves, timekeepers, supervisors of employees, payroll specialists, and other Federal agencies for which the individual worked.

NARA 15

SYSTEM NAME:

Freelance Editor/Indexer Files.

SYSTEM LOCATION:

Freelance editor/indexer files are located in the Office of Strategy and Communications (Publications and Creative Development staffs).

CATEGORIES OF INDIVIDUALS COVERED BY THE SYSTEM:

Individuals covered by this system include freelance editors and indexers with whom NARA has contracted for editing and indexing services or who have expressed an interest in performing such services for NARA.

CATEGORIES OF RECORDS IN THE SYSTEM:

Freelance editor/indexer files may include: correspondence; resumes; biographical statements; evaluations; examples of previous work; invoices; and certifications for payment. These records may contain some or all of the following information about an individual: Name; address; email address; telephone number; educational background; professional experience and awards; research interests; titles of publications; and other information furnished by the individual.

AUTHORITY FOR MAINTENANCE OF THE SYSTEM:

44 U.S.C. 2104, 2109, and 2307.

ROUTINE USES OF RECORDS MAINTAINED IN THE SYSTEM, INCLUDING CATEGORIES OF USERS AND THE PURPOSES OF SUCH USES:

NARA maintains freelance editor/indexer files on individuals to: Review professional qualifications of editors and indexers; provide referral to NARA offices when freelancers are needed to handle their service projects; make assignments and indicate assignment completion dates; evaluate the quality of work performed during assignments; and document editing and indexing expenditures for budgetary purposes. The routine use statements A, F, G, and H, described in Appendix A, also apply to this system of records.

POLICIES AND PRACTICES FOR STORING, RETRIEVING, ACCESSING, RETAINING, AND DISPOSING OF RECORDS IN THE SYSTEM:

STORAGE:

Paper records and electronic records.

RETRIEVABILITY:

Information in freelance editor/indexer files may be retrieved by the individual's name.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Freelance editor/indexer files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system manager is the Chief Strategy and Communications Officer. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in freelance editor/indexer files may be obtained from: Freelance editors and indexers with whom NARA has contracted to perform editing and indexing services; freelance editors and indexers who have expressed an interest in performing services for NARA; NARA employees who maintain the files; and references furnished by freelance editors and indexers.

NARA 16

SYSTEM NAME:

Library Circulation Files.

SYSTEM LOCATION:

Library circulation files are located at the National Archives Library in Washington, DC, College Park, MD, and at individual Presidential libraries.

CATEGORIES OF INDIVIDUALS COVERED BY THE SYSTEM:

Individuals covered by this system include all NARA employees and researchers who have borrowed books and other materials from the National Archives Library and/or the Presidential libraries collections.

CATEGORIES OF RECORDS IN THE SYSTEM:

Library circulation files contain the following information about an individual: Name; correspondence symbol or address; telephone number; email address; titles and call numbers of items borrowed; and dates that the items were borrowed.

AUTHORITY FOR MAINTENANCE OF THE SYSTEM:

44 U.S.C. 2104.

ROUTINE USES OF RECORDS MAINTAINED IN THE SYSTEM, INCLUDING CATEGORIES OF USERS AND THE PURPOSES OF SUCH USES:

NARA maintains library circulation files on individuals in order to control the circulation of library books, periodicals, and other materials in NARA's library collections. The routine use statements A F, G, and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in library circulation files may be retrieved by the individual's name, by the title of the item charged out, or by the call number for the item.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Library circulation files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system managers for library circulation files are:

1. For files in the Washington, DC, area: Executive for Research Services; and

2. For files in a Presidential library: director of the individual library.

The business addresses for these system managers are listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in library circulation files is obtained from NARA employees and researchers who borrow books and other materials from the library collections of the National Archives Library and/or the Presidential libraries.

NARA 17

SYSTEM NAME:

Grievance Records.

SYSTEM LOCATION:

Grievance records are maintained in the Office of Human Capital (Labor/Employee Relations and Benefits Branch locations at the National Archives at College Park, MD, and St. Louis, MO).

CATEGORIES OF INDIVIDUALS COVERED BY THE SYSTEM:

Individuals covered by this system include current and former NARA employees who have submitted grievances to NARA in accordance with Office of Personnel Management (OPM) regulations (5 CFR Part 771) or in accordance with internal negotiated grievance procedures.

CATEGORIES OF RECORDS IN THE SYSTEM:

Grievance records may include: statements of witnesses; reports of interviews and hearings; findings and recommendations of examiners; copies of the original and final decisions; and related correspondence and exhibits. These files may contain some or all of the following information about an individual: Name; address; social security number; correspondence symbol; telephone number; occupation; grade; salary information; educational background; employment history; medical information; and names of supervisors and witnesses.

AUTHORITY FOR MAINTENANCE OF THE SYSTEM:

5 U.S.C. 1302, 3301, 3302, and 7121; Executive Order 10577 (3 CFR 1954 through 1958); and Executive Order 10987 (3 CFR 1959 through 1963).

ROUTINE USES OF RECORDS MAINTAINED IN THE SYSTEM, INCLUDING CATEGORIES OF USERS AND THE PURPOSES OF SUCH USES:

NARA maintains grievance records on individuals in order to process grievances submitted by or on behalf of NARA employees in accordance with OPM regulations or internal negotiated grievance procedures.

NARA may disclose only enough information in grievance records to any source from which additional information is requested in the course of processing a grievance to: identify the source to the extent necessary; inform the source of the purpose(s) of the request; and identify the type of information requested from the source. NARA may also disclose information in grievance files to officials of labor organizations recognized under the Civil Service Reform Act when the information is relevant to the officials' duties of exclusive representation concerning personnel policies, practices, and matters affecting work conditions. The routine use statements A, D, E, F, G, and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in grievance records may be retrieved by the individual's name.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Grievance files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system manager is the Chief Human Capital Officer. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

Review of requests from individuals seeking amendment of their records that have been the subject of a judicial or quasi-judicial action will be limited in scope. Review of amendment requests of these records will be restricted to determine if the record accurately documents the action of the NARA ruling on the case and will not include a review of the merits of the action, determination, or finding. NARA rules for contesting the contents and appealing initial determinations are found in 36 CFR Part 1202.

RECORD SOURCE CATEGORIES:

Information in grievance records may be obtained from: individuals on whom records are maintained; witnesses; NARA officials; and NARA payroll and personnel specialists.

NARA 18

SYSTEM NAME:

General Law Files.

SYSTEM LOCATION:

Records are located in the Office of the General Counsel.

CATEGORIES OF INDIVIDUALS COVERED BY THE SYSTEM:

Individuals covered by this system include: Current and former NARA employees; other Federal agency employees; individual members of the public; witnesses in litigation; people who have requested records under the Freedom of Information Act (FOIA) and/or the Privacy Act; people about whom requests under the FOIA and/or the Privacy Act have been made; and people involved in administrative actions or litigation to which NARA is a party or to which NARA has relevant records.

CATEGORIES OF RECORDS IN THE SYSTEM:

Records in the system may contain some or all of the following information about an individual: Name; social security number; position description; grade; salary; work history; complaint; credit ratings; medical diagnoses and prognoses; and doctor's bills. The system may also contain other records such as: Case history files; copies of applicable law(s); working papers of attorneys; testimony of witnesses; background investigation materials; correspondence; damage reports; contracts; accident reports; pleadings; affidavits; estimates of repair costs; invoices; litigation reports; financial data; contact information for individuals related to the litigation or matter; and other data.

AUTHORITY FOR MAINTENANCE OF THE SYSTEM:

5 U.S.C. 552; 5 U.S.C. 552a; 5 U.S.C., Part II; 5 U.S.C., Chapter 33; 5 U.S.C. 5108, 5314-5316 and 42 U.S.C. 20003, et seq.; 5 U.S.C. 7151-7154; 5 U.S.C. 7301; 5 U.S.C. 7501, note (adverse actions); 5 U.S.C., Chapter 77; 5 U.S.C. App.; 28 U.S.C. 1291, 1346(b)(c), 1402(b), 1504, 2110; 31 U.S.C. 3701, 3711, 3713, 3717, 3718, 3721.

ROUTINE USES OF RECORDS MAINTAINED IN THE SYSTEM, INCLUDING CATEGORIES OF USERS AND THE PURPOSES OF SUCH USES:

Records are used to: give general legal advice, as requested, throughout NARA; prepare attorneys for hearings and trials; reference past actions; and maintain internal statistics. Information may be disclosed to the Department of Justice in review, settlement, defense, and prosecution of claims, complaints, and lawsuits involving contracts, torts, debts, bankruptcy, personnel adverse action, EEO, unit determination, unfair labor practices, and Freedom of Information and Privacy Act requests. Information may be disclosed to the Office of Government Ethics (OGE) to obtain OGE advice on an ethics issue, to refer possible ethics violations to OGE, or during an OGE evaluation of NARA's Ethics Program. The routine use statements A, B, C, D, E, F, G, and H, described in Appendix A, also apply to this system of records.

POLICIES AND PRACTICES FOR STORING, RETRIEVING, ACCESSING, RETAINING, AND DISPOSING OR RECORDS IN THE SYSTEM:

STORAGE:

Paper and electronic records.

RETRIEVABILITY:

Information may be obtained by the individual's name or by a case number assigned by the court or agency hearing the complaint or appeal, or other key words within the file.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Most files are temporary records and are destroyed in accordance with disposition instructions in the NARA Records Schedule (a supplement to the NARA Files Maintenance and Records Disposition Manual). Significant litigation files are permanent records that are eventually transferred to the National Archives of the United States. Individuals may request a copy of the disposition instructions from the NARA Privacy Act Officer.

SYSTEM MANAGER(S) AND ADDRESS:

The system manager is the General Counsel. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in this system of records comes from one or more of the following sources: Federal employees and private parties involved in torts and employee claims, contracts, personnel actions, unfair labor practices, and debts concerning the Federal government; witnesses; and doctors and other health professionals.

NARA 19

SYSTEM NAME:

Workers' Compensation Case Files.

SYSTEM LOCATION:

Workers' compensation case files are located in the Office of Human Capital, and in the administrative offices of facilities nationwide.

CATEGORIES OF INDIVIDUALS COVERED BY THE SYSTEM:

Individuals covered by this system include NARA employees and former employees who have reported work-related injuries or other occupational health problems on forms CA-1 or CA-2, or the equivalent.

CATEGORIES OF RECORDS IN THE SYSTEM:

Workers' compensation case files may include: accident reports, including CA-1 & 2, Federal Employees Notice of Injury or Occupational Disease, CA-4, Claims For Compensation for Injury or Occupation Disease, and CA-8, Claims for Continuance of Compensation on Account of Disability; time and attendance reports; and medical reports from physicians and other health care professionals. These files may contain some or all of the following information about an individual: Name; address; email address; correspondence symbol; telephone number; occupation; birth date; names of supervisors and witnesses; and medical information related to work-related accidents or other occupational health problems.

AUTHORITY FOR MAINTENANCE OF THE SYSTEM:

5 U.S.C. 7902 and Chapter 81.

ROUTINE USES OF RECORDS MAINTAINED IN THE SYSTEM, INCLUDING CATEGORIES OF USERS AND THE PURPOSES OF SUCH USES:

NARA maintains workers' compensation case files on individuals in order to identify and record information about those NARA employees who have sustained injuries or reported other occupational health problems, and to facilitate the preparation of statistical and other reports regarding work-related injuries or other occupational health problems. NARA may disclose to a Federal, state, or local public health service agency information in the files that concerns individuals who have contracted certain communicable diseases or conditions. NARA may disclose information in the files to the Department of Labor for purposes of administering the workers' compensation program. NARA may disclose information in the files to the Occupational Safety and Health Administration for the purpose of monitoring workplace health and safety issues. The routine use statements A, B, C, D, E, F, G, and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in workers' compensation case files may be retrieved by the individual's name or by other information contained within the file.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Workers' compensation case files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system manager is the Chief Human Capital Officer. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in workers' compensation case files may be obtained from: Individuals to whom the records pertain; NARA supervisors; NARA personnel specialists; physicians; others providing health care services; and the Department of Labor.

NARA 20

SYSTEM NAME:

Reviewer/Consultant Files.

SYSTEM LOCATION:

Reviewer/consultant files are located at the National Historical Publications and Records Commission.

CATEGORIES OF INDIVIDUALS COVERED BY THE SYSTEM:

Individuals covered by the system include people who have expressed an interest in, or have served as reviewers or consultants for, the NHPRC records or publications grant programs.

CATEGORIES OF RECORDS IN THE SYSTEM:

Reviewer/consultant files may include: Resumes; biographical statements; correspondence; and lists containing some or all of the following information about an individual: Name; address; email address; telephone number; educational background; professional experience and awards; and titles of publications.

AUTHORITY FOR MAINTENANCE OF THE SYSTEM:

44 U.S.C. 2501-2506.

ROUTINE USES OF RECORDS MAINTAINED IN THE SYSTEM, INCLUDING CATEGORIES OF USERS AND THE PURPOSES OF SUCH USES:

NHPRC maintains reviewer/consultant files on individuals in order to select reviewers who will evaluate proposals received for the records and publications grant programs, and to recommend archival consultants for those state and non-state organizations that have received grants for records and publications projects. NARA may disclose to grant recipients the lists of names of potential consultants in order for the recipients to contact individuals who have expressed an interest in serving as consultants on grant projects. The routine use statements F and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in reviewer/consultant files may be retrieved by the individual's name or the proposal evaluated by the reviewer.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Reviewer/consultant files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system manager for reviewer/consultant files is the Executive Director, National Historical Publications and Records Commission. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in reviewer/consultant files may be obtained from reviewers and consultants and from references furnished by them.

NARA 21

SYSTEM NAME:

National Historical Publication and Records Commission Grant, Fellowship, and Editing Institute Application Files.

SYSTEM LOCATION:

Grant, Fellowship, and Editing Institute application files are located at the National Historical Publications and Records Commission.

CATEGORIES OF INDIVIDUALS COVERED BY THE SYSTEM:

Individuals covered by this system include applicants for NHPRC grants, fellowships in archival administration, and advanced historical editing, and individuals who applied for the annual Institute for the Editing of Historical Documents prior to 2011.

CATEGORIES OF RECORDS IN THE SYSTEM:

Grant, fellowship, and Editing Institute application files may include: application forms; correspondence; resumes; college transcripts; and evaluations. These records may contain some or all of the following information about an individual: Name; address; email address; telephone number; educational background; professional experience and awards; archival and historical records experience; project proposals; titles of publications; and other information provided in letters of reference furnished by applicants and in evaluations completed by fellowship institutions and documentary editing projects. Grant application information is submitted to NHPRC through an online grants application system for Federal agencies.

AUTHORITY FOR MAINTENANCE OF THE SYSTEM:

44 U.S.C. 2504 and 2506.

ROUTINE USES OF RECORDS MAINTAINED IN THE SYSTEM, INCLUDING CATEGORIES OF USERS AND THE PURPOSES OF SUCH USES:

NHPRC maintains grant, fellowship, and Editing Institute application files on individuals in order to: Evaluate the preliminary eligibility of applicants for grants and fellowships; jointly select, with the director of the Editing Institute, applicants to attend the Institute for the Editing of Historical Documents; and oversee grant-making and grant administration programs. NHPRC discloses copies of individuals' grant and fellowship application files to officials of fellowship institutions and documentary editing projects for the purposes of selecting fellows and administering fellowships in archival administration and advanced historical editing. NHPRC discloses copies of individuals' Editing Institute applications to the director of the Editing Institute to select applicants to attend the annual Institute and to determine the most useful areas of instruction for successful applicants. The routine use statements A, F, and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in grant, fellowship, and Editing Institute application files may be retrieved by the individual's name and by other information the applicant provided.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Nearly all grant and fellowship application files, and all Editing Institute application files, are temporary records and are destroyed in accordance with the disposition instructions in the NARA Records Schedule (a supplement to the NARA Files Maintenance and Records Disposition Manual). As of 2011, NARA is no longer collecting new Editing Institute applications. However, on occasion, files for accepted fellowship applications may be selected by the Executive Director for inclusion in grant case files that have met established criteria for permanent retention in the National Archives of the United States. Individuals may request a copy of the disposition instructions from the NARA Privacy Act Officer.

SYSTEM MANAGER(S) AND ADDRESS:

The system manager is the Executive Director, National Historical Publications and Records Commission. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in grant, fellowship, and Editing Institute application files may be obtained from: Applicants for fellowships in archival administration or advanced historical editing under the NHPRC grant program; applicants for the Institute for the Editing of Historical Documents; references furnished by applicants; and officials of fellowship institutions, documentary editing projects, and the Institute for the Editing of Historical Documents.

NARA 22

SYSTEM NAME:

Employee-Related Files.

SYSTEM LOCATION:

Employee-related files may be maintained in supervisory or administrative offices at all NARA facilities.

CATEGORIES OF INDIVIDUALS COVERED BY THE SYSTEM:

Individuals covered by this system include former and current NARA employees and relatives of employees of the National Personnel Records Center (NPRC).

CATEGORIES OF RECORDS IN THE SYSTEM:

Employee-related files consist of a variety of employee-related records maintained for the purpose of administering personnel matters. These files may contain some or all of the following information about an individual: Name; email address, home and emergency addresses and telephone numbers; social security number; birth date; professional qualifications, training, awards, and other recognition; employment history; and information about congressional employee relief bills, conduct, and work assignments. Employee-related records may also include data on the existence of military service records of employees of the NPRC and their relatives (captured using NA Form 13108, Military Service Data of Employee and Relatives). The form is maintained within NPRC employee personnel files to ensure records security and integrity at the Center. Employee-related files do not include official personnel files, which are covered by Office of Personnel Management systems of records OPM/GOVT-1 through 10.

AUTHORITY FOR MAINTENANCE OF THE SYSTEM:

5 U.S.C. generally, and 31 U.S.C. generally.

ROUTINE USES OF RECORDS MAINTAINED IN THE SYSTEM, INCLUDING CATEGORIES OF USERS AND THE PURPOSES OF SUCH USES:

NARA maintains employee-related files on individuals in order to document NARA employee travel and outside employment activities, and to carry out personnel management responsibilities in general. The routine use statements A, B, C, D, E, F, G, and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in employee related files may be retrieved primarily by the individual's name, but also by the other categories of information provided, and may, where electronically stored, be full-text searchable.

SAFEGUARDS:

During business hours, paper records are maintained in areas accessible to authorized NARA personnel. Electronic records are accessible via identity authentication at workstations located in attended offices or through a secure remote access network. After business hours, buildings have security guards and/or secured doors, and all entrances are monitored by electronic surveillance equipment.

RETENTION AND DISPOSAL:

Employee-related files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system managers for employee-related files are:

1. For files on Washington, DC,-area employees: executive or staff director of the employee's respective office or staff;

2. For files on employees outside the Washington, DC,-area: executive of the employee's respective office; and

3. For files on employees in the Presidential libraries: directors of the individual libraries.

The business addresses for these system managers are listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in employee-related files may be obtained from NARA employees and supervisors, and personnel and administrative records.

NARA 23

SYSTEM NAME:

Office of Inspector General Investigative Case Files.

SECURITY CLASSIFICATION:

Some of the material contained in this system of records has been classified in the interests of national security pursuant to Executive Orders 12958, as amended, and 13142.

SYSTEM LOCATION:

Investigative case files are located in the Office of Inspector General, and are held for long-term storage at Federal Records Centers.

CATEGORIES OF INDIVIDUALS IN THE SYSTEM:

Individuals covered by this system of records may include: People who have been the source of a complaint or an allegation that has been brought to the OIG, witnesses having information or evidence concerning an investigation, and suspects in criminal, administrative, civil, or other actions. Current and former NARA employees, NARA contract employees, members of NARA's Federal advisory committees, contractors, and members of the public are covered under this system of records when they become subjects of, witnesses to, or are otherwise involved in authorized investigations.

CATEGORIES OF RECORDS IN THE SYSTEM:

Investigative case files may include: Statements of alleged administrative, ethical, or criminal wrongdoing; reports; related correspondence; exhibits; copies of forms and decisions; summaries of hearings and meetings; notes; attachments; and other working papers. These records may contain some or all of the following information about an individual: name; address; correspondence symbol; telephone number; birth date; birthplace; citizenship; educational background; employment history; medical history; identifying numbers such as social security and driver's license numbers; insurance information; and other information.

AUTHORITY FOR MAINTENANCE OF THE SYSTEM:

5 U.S.C. App. 3.

ROUTINE USES OF RECORDS MAINTAINED IN THE SYSTEM, INCLUDING CATEGORIES OF USERS AND THE PURPOSES OF SUCH USES:

Pursuant to the Inspector General Act of 1978, Public Law 95-452, and Inspector General Reform Act of 2008, Public Law 110-409, (codified as amended at 5 U.S.C. App. 3), NARA maintains investigative case files on individuals to: Examine allegations and/or complaints of fraud, waste, abuse, and irregularities and violations of laws and regulations; make determinations resulting from these authorized investigations; and facilitate the preparation of statistical and other reports by the Office of Inspector General (OIG). As described in Appendix A, the routine use statements A, B, C, D, E, G, and H also apply to this system of records.

In addition to the disclosures generally permitted under 5 U.S.C. 552a(b) of the Privacy Act of 1974 and the specified routine uses described in Appendix A, information in this system may be disclosed pursuant to 5 U.S.C. 552a(b)(3) according to following the routine uses:

1. To qualified individuals or organizations, including, but not limited to, the Council of the Inspectors General on Integrity and Efficiency, authorized Department of Justice officials, and the Federal Bureau of Investigation, performing peer reviews, qualitative assessment reviews, other studies of internal safeguards and management procedures employed in the operation of the OIG, or investigations of actions taken by the OIG.

2. To a court, magistrate, or administrative tribunal in the course of presenting evidence, including disclosures to opposing counsel or witnesses, in the course of civil discovery, litigation, or settlement negotiations, in connection with criminal law proceedings, or in response to a subpoena where arguably relevant to a proceeding.

3. To the Department of Justice for the purpose of litigating an action or seeking legal advice, or for the purpose of obtaining its advice on Freedom of Information Act matters.

4. To third parties during the course of an investigation to the extent necessary to obtain information pertinent to the investigation.

5. To a congressional office in response to an inquiry made at the request of the individual to whom the record pertains; or in accordance with the OIG's duties described in the Inspector General Act of 1978, as amended.

6. To an individual or individuals who are in danger in situations involving imminent danger of death or physical injury.

7. To independent auditors or other private firms or individuals with which the OIG has contracted to carry out an independent audit, or to provide support for audits, reviews, investigations, or other inquiries. These contractors will be required to maintain Privacy Act safeguards with respect to such records.

8. To inform complainants, victims, and witnesses of the results of an investigation or inquiry.

9. To a Federal agency responsible for considering debarment or suspension action if the record would be relevant to such action.

10. To the Office of Management and Budget for the purpose of obtaining its advice on Privacy Act matters.

11. To the Office of Government Ethics to comply with agency reporting requirements established by the Office of Government Ethics in 5 CFR part 2638, subpart F.

12. To the White House, Office of Management and Budget, and other organizations in the Executive Office of the President regarding matters inquired of.

13. To a contractor, subcontractor, or grantee firm or institution, to the extent that the disclosure is in NARA's interest and is relevant and necessary in order that the contractor, subcontractor, or grantee is able to take administrative or corrective action.

14. To the news media and general public, unless the Inspector General determines disclosure to constitute an unwarranted invasion of personal privacy, if:

a. The matter under investigation has become public knowledge;

b. The Inspector General determines that such disclosure is necessary to preserve confidence in the integrity of the OIG investigative process or demonstrate the accountability of NARA officers, employees, or other individuals covered by this system; or

c. A legitimate public interest exists (e.g., to provide information on events in the criminal process, to assist in the location of fugitives, or where necessary for protection from imminent threat of life or property).

15. To individuals performing functions for the OIG while not technically having the status of agency employees, including, but not limited to, student volunteers or individuals working under a personal services contract, if they need access to the records in order to perform their assigned agency functions.

POLICIES AND PRACTICES FOR STORING, RETRIEVING, ACCESSING, RETAINING, AND DISPOSING OF RECORDS IN THE SYSTEM:

STORAGE:

Paper records and networked electronic media system with removable media.

RETRIEVABILITY:

Information in investigative case files may be retrieved by the primary investigator's name, case title (which may or may not include the subject's or other individuals' names), or case file number.

SAFEGUARDS:

During business hours, paper records are maintained in areas accessible only to authorized NARA personnel. Electronic records are accessible via password-protected workstations located in attended offices or through a secure remote access network. After business hours, buildings have security guards and/or secured doors, and all entrances are monitored by electronic surveillance equipment.

RETENTION AND DISPOSAL:

Nearly all investigative case files are temporary records and are destroyed in accordance with the disposition instructions in the NARA records schedule contained in FILES 203, the NARA Files Maintenance and Records Disposition Manual. However, the retention and disposal of significant investigative case files, such as those that result in national media attention, congressional investigation, and/or substantive changes in agency policy or procedure, are determined on a case-by-case basis. Individuals may request a copy of the disposition instructions from the NARA Privacy Act Officer.

SYSTEM MANAGER(S) AND ADDRESS:

The system manager is the Inspector General. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in investigative case files may be obtained from any source, such as current and former NARA employees, NARA contract employees, members of NARA's Federal advisory committees, researchers, law enforcement agencies, other Government agencies, informants, educational institutions, the public, and from individuals' employers, references, co-workers, and neighbors.

SYSTEMS EXEMPTED FROM CERTAIN PROVISIONS OF THE ACT:

In accordance with 5 U.S.C. 552a(j)(2), this system of records, to the extent it pertains to the enforcement of criminal laws, is exempted from all provisions of the Privacy Act of 1974, 5 U.S.C. 552a, except subsections (b), (c)(1) and (c)(2), (e)(4)(A) through (F), (e)(6), (7), (9), (10), and (11), and (i). This exemption applies to those records and information contained in the system of records pertaining to the enforcement of criminal laws.

In accordance with 5 U.S.C. 552a(k)(1), (k)(2), and (k)(5), this system of records is exempt from subsections (c)(3); (d); (e)(1); (e)(4)(G) and (H); and (f) of the Privacy Act of 1974 if the system of records is:

(1) Subject to the provisions of § 552(b)(1) of this title;

(2) Investigatory material compiled for law enforcement purposes; however, if any individual is denied any right, privilege, or benefit to which the individual would otherwise be entitled by Federal law or otherwise eligible as a result of the maintenance of such material, the material will be provided to that individual, except to the extent that the disclosure of the material would reveal the identity of a source who furnished information to the government under an express promise that the identity of the source would be held in confidence, or, prior to the effective date of the Act, under an implied promise that the identity of the source would be held in confidence; or

(3) Investigatory material compiled solely for the purpose of determining suitability, eligibility, or qualifications for Federal civilian employment, military service, Federal contracts, or access to classified material, but only to the extent that the disclosure of such material would reveal the identity of a source who furnished information to the Government under an express promise that the identity of the source would be held in confidence, or, prior to the effective date of the Act, under an implied promise that the identity of the source would be held in confidence.

NARA 24

SYSTEM NAME:

Personnel Security Files.

SECURITY CLASSIFICATION:

Some of the material contained in this system of records has been classified in the interests of national security pursuant to Executive Orders 12958, as amended, and 13142.

SYSTEM LOCATION:

Personnel security records are located in the Office of Business Support Services (Security Management Division).

CATEGORIES OF INDIVIDUALS COVERED BY THE SYSTEM:

Individuals covered by the system include: current and former NARA employees; applicants for employment with NARA; contract employees performing services under NARA jurisdiction; and private and Federal agency researchers, experts, and consultants who request access to security-classified records.

CATEGORIES OF RECORDS IN THE SYSTEM:

Personnel security files may include questionnaires, correspondence, summaries of reports, and electronic logs of individuals' security clearance status. These records may contain the following information about an individual: Name, current address, telephone number, birth date, birthplace, Social Security number, educational background, employment and residential history, background investigative material, and security clearance data.

AUTHORITY FOR MAINTENANCE OF THE SYSTEM:

Executive Order 10450; Executive Order 12958, as amended; Executive Order 12968; Executive Order 13142; and 5 U.S.C. 301.

ROUTINE USES OF RECORDS MAINTAINED IN THE SYSTEM, INCLUDING CATEGORIES OF USERS AND THE PURPOSES OF SUCH USES:

NARA maintains personnel security records on individuals to make suitability determinations for Federal or contractual employment and to issue and decertify security clearances. Routine use statements A, C, D, F, G, and H, described in Appendix A, apply to this system of records.

POLICIES AND PRACTICES FOR STORING, RETRIEVING, ACCESSING, RETAINING, AND DISPOSING OF RECORDS IN THE SYSTEM:

STORAGE:

Paper and electronic records.

RETRIEVABILITY:

Information in the records may be retrieved by the individual's name or social security number.

SAFEGUARDS:

During business hours, paper records are maintained in locked rooms and/or in three-way combination dial safes with access limited to authorized employees. Electronic records are accessible via password-protected workstations located in secured offices. Information is released to officials on a need-to-know basis only. After hours, buildings have security guards and/or doors are secured, and all entrances are monitored by electronic surveillance equipment.

RETENTION AND DISPOSAL:

Personnel security files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system manager is the Executive for Business Support Services. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in personnel security files may be obtained from: NARA employees; applicants for employment; contractor employees; private and Federal agency researchers, experts, and consultants; law enforcement agencies; other government agencies; intelligence sources; informants; educational institutions; and individuals' employers, references, co-workers, and neighbors.

SYSTEMS EXEMPTED FROM CERTAIN PROVISIONS OF THE ACT:

In accordance with 5 U.S.C. 552a(k)(1), (k)(2), and (k)(5), the personnel security case files in this system of records are exempt from subsections (c)(3); (d); (e)(1); (e)(4)(G), (H), and (I); and (f) of the Privacy Act of 1974, as amended. The system is exempt:

a. To the extent that the system consists of investigatory material compiled for law enforcement purposes; however, if any individual is denied any right, privilege, or benefit to which the individual would otherwise be eligible as a result of the maintenance of such material, the material will be provided to that individual, except to the extent that the disclosure of the material would reveal the identity of a person who furnished information to the government under an express promise that the identity of the person would be held in confidence, or, prior to the effective date of the Act, under an implied promise that the identity of the person would be held in confidence; and

b. To the extent that the system consists of investigatory material compiled solely for the purpose of determining suitability, eligibility, or qualifications for Federal civilian employment, military service, Federal contracts, or access to classified material, but only to the extent that the disclosure of such material would reveal the identity of a person who furnished information to the government under an express promise that the identity of the person would be held in confidence, or, prior to the effective date of the Act, under an implied promise that the identity of the person would be held in confidence. This system has been exempted to maintain the efficacy and integrity of lawful investigations conducted pursuant to NARA's responsibilities in the areas of Federal employment, government contracts, and access to security-classified information.

NARA 25

SYSTEM NAME:

Order Fulfillment and Accounting System (OFAS) Records.

SYSTEM LOCATION:

Order Fulfillment and Accounting System (OFAS) records are maintained in the following locations:

(1) Office of Research Services;

(2) Office of Legislative Archives, Presidential Libraries, and Museum Services;

(3) Office of the Federal Register; and

(4) Office of Business Support Services (Office of the Chief Financial Officer, National Archives Trust Fund Branch).

CATEGORIES OF INDIVIDUALS COVERED BY THE SYSTEM:

Individuals covered by this system include: Researchers who order records reproductions at Washington, DC-area facilities, Presidential libraries, and archival custodial units nationwide or online via the archives.gov Web site; and customers who order NARA inventory items, such as microform and printed publications, mementos, and other specialty products from NARA catalogues and other marketing publications.

CATEGORIES OF RECORDS IN THE SYSTEM:

OFAS records may include: Ordering forms; correspondence; copies of checks, money orders, credit card citations, and other remittances; invoices; and order and accounting information in the electronic system. These records may contain some or all of the following information about an individual: Name, address, telephone number, record(s) or item(s) ordered, and credit card or purchase order information. OFAS records also include user profile data, reproduction order form data, transaction data, and credit card payment data transmitted from NARA Online Ordering System, NARA 37, via an automated XML (Extensible Markup Language) interface that operates within NARA's secure internal network.

AUTHORITY FOR MAINTENANCE OF THE SYSTEM:

44 U.S.C. 2116(c) and 2307.

ROUTINE USES OF RECORDS MAINTAINED IN THE SYSTEM, INCLUDING CATEGORIES OF USERS AND THE PURPOSES OF SUCH USES:

NARA maintains OFAS records on individuals to: Receive, maintain control of, and process orders for Point of Sale and other fee items; bill customers for orders; maintain payment records for orders; process refunds; and provide individuals with information on other NARA products. Customer order information may be initially disclosed to a NARA agent, a bank that collects and deposits payments in a lockbox specifically used for crediting order payments to the National Archives Trust Fund. NARA may also disclose information in OFAS records to process customer refunds to the Bureau of Public Debt (BPD), which provides NARA's financial and accounting system under a cross-servicing agreement. The routine use statements A, E, F, and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in OFAS records may be retrieved by the individual's name or the OFAS transaction number. Information in electronic records may also be retrieved by the invoice number or zip code.

SAFEGUARDS:

During business hours, paper records are maintained in areas accessible to authorized NARA personnel. Electronic records are accessible via password-protected workstations located in attended offices. Credit card information is compartmentalized so that it is available only to those NARA employees responsible for posting and billing credit card transactions. After hours, buildings have security guards and/or doors are secured and all entrances are monitored by electronic surveillance equipment.

RETENTION AND DISPOSAL:

OFAS records are temporary records and are destroyed in accordance with the disposition instructions in the NARA Records Schedule (a supplement to the NARA Files Maintenance and Records Disposition Manual). Individuals may request a copy of the disposition instructions from the NARA Privacy Act Officer.

SYSTEM MANAGER(S) AND ADDRESS:

For OFAS records: Executive for Business Support Services.

The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in OFAS records is obtained from customers, NARA employees or agents who are involved in the order process, and BPD employees who process refunds.

NARA 26

SYSTEM NAME:

Volunteer and Unpaid Student Intern Files.

SYSTEM LOCATION:

Volunteer and unpaid student intern files may be maintained in supervisory or administrative offices at all NARA facilities that use volunteer or student workers.

CATEGORIES OF INDIVIDUALS COVERED BY THE SYSTEM:

Individuals covered by this system include people who have applied to be NARA volunteers or unpaid student interns.

CATEGORIES OF RECORDS IN THE SYSTEM:

Volunteer or unpaid student intern files consist of a variety of records maintained by operating officials to administer personnel matters affecting volunteers and unpaid student interns. Records may include: applications for volunteer/unpaid intern service and for building passes, registration forms, other administrative forms, correspondence, resumes, letters of recommendation, college transcripts and forms, performance assessments, and copies of timesheets. Volunteer/unpaid student intern files may include some or all of the following information about an individual: Name; email address; home and emergency addresses and telephone numbers; Social Security number; birth date; professional qualifications, training, awards, and other recognition; employment history; information about injuries, conduct, attendance, years of service; forms related to the volunteer code of conduct; and work assignments. This system of records does not include official personnel files, which are covered by Office of Personnel Management systems of records OPM/GOVT-1 through 10.

AUTHORITY FOR MAINTENANCE OF THE SYSTEM:

44 U.S.C. 2105(d); and generally, 5 and 31 U.S.C.

ROUTINE USES OF RECORDS MAINTAINED IN THE SYSTEM, INCLUDING CATEGORIES OF USERS AND THE PURPOSES OF SUCH USES:

NARA maintains volunteer/unpaid student intern files on individuals to: evaluate individuals who apply to serve as volunteers, docents, interns, and work study students at NARA facilities; assign work and monitor performance; and carry out personnel management responsibilities that affect those volunteers. NARA may disclose volunteer information to volunteer associations or NARA support foundations that support and help organize volunteers. NARA may disclose attendance and performance information on interns and work study students to colleges and universities that oversee those individuals in student internships and work study programs. The routine use statements A, B, C, D, F, G, and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in volunteer/unpaid student intern files may be retrieved primarily by the individual's name.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Volunteer/unpaid student intern files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system managers for volunteer and unpaid student intern files are:

1. For files located in a Presidential library: director of the individual library;

2. For files on Washington, DC,-area volunteers/unpaid student interns: executive or staff director of the volunteer/intern's respective office or staff; and

3. For files on volunteers/unpaid student interns outside the Washington, DC,-area: executive of the volunteer/intern's respective office.

The business addresses for these system managers are listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in volunteer files is obtained from the volunteers themselves, NARA supervisors, people listed as references in applications submitted by volunteers, and educational institutions.

NARA 27

SYSTEM NAME:

Contracting Officer and Contracting Officer's Representative (COR) Designation Files.

SYSTEM LOCATION:

Contracting officer and contracting officer's representative (COR) designation files are maintained in the Office of Business Support Services (Office of the Chief Financial Officer, Acquisitions Services Branch).

CATEGORIES OF INDIVIDUALS COVERED BY THE SYSTEM:

Individuals covered by this system include current and former NARA employees who have been appointed as NARA contracting officers, government credit card holders, and CORs in accordance with Federal Acquisition Regulations (FAR) and internal procurement procedures.

CATEGORIES OF RECORDS IN THE SYSTEM:

Contracting officer and COR designation files may include: Standard Forms 1402, Letter of Appointment; correspondence; copies of training course certificates; copies of training forms; and lists. These files may contain some or all of the following information about an individual: Name, address, NARA correspondence symbol, telephone number, position title, grade, procurement authorities, and information about procurement training and government credit cards issued.

AUTHORITY FOR MAINTENANCE OF THE SYSTEM:

44 U.S.C. 2104; and 48 CFR 1.603 generally.

ROUTINE USES OF RECORDS MAINTAINED IN THE SYSTEM, INCLUDING CATEGORIES OF USERS AND THE PURPOSES OF SUCH USES:

NARA maintains contracting officer and COR designation files in order to administer procurement certification and training programs for NARA contracting officers, credit card holders, and CORs in accordance with the FAR and internal procurement procedures. The routine use statements A, F, and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in contracting officer and COR designation files may be retrieved by the Individual's name or by NARA correspondence symbol.

SAFEGUARDS:

During business hours, records are maintained in areas accessible to authorized NARA personnel. Electronic records are accessible via password-protected workstations located in attended offices. After business hours, buildings have security guards and/or secured doors, and all entrances are monitored by electronic surveillance equipment.

RETENTION AND DISPOSAL:

Contracting officer and COR designation files are temporary records and are destroyed in accordance with the disposition instructions in the NARA Records Schedule (a supplement to the NARA Files Maintenance and Records Disposition Manual). Electronic files are periodically updated and purged of outdated information. Individuals may request a copy of the disposition instructions from the NARA Privacy Act Officer.

SYSTEM MANAGER(S) AND ADDRESS:

The system manager for contracting officer and COR designation files is the Executive for Business Support Services. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in contracting officer and COR designation files may be obtained from the individuals on whom records are maintained, NARA supervisors, and organizations that provide procurement training or issue government credit cards.

NARA 28

SYSTEM NAME:

Tort and Employee Claim Files.

SYSTEM LOCATION:

Records are located in the Office of General Counsel.

CATEGORIES OF INDIVIDUALS COVERED BY THE SYSTEM:

Individuals covered by this system include: current and former NARA employees, other Federal agency employees, and individual members of the public who have filed a legal claim (e.g., tort claim or a personnel claim) against NARA or are the subject of a case file.

CATEGORIES OF RECORDS IN THE SYSTEM:

Records in the system may contain some or all of the following information about an individual: Name, Social Security number, position description, grade, salary, work history, complaint, credit ratings, medical diagnoses and prognoses, and doctor's bills. The system may also contain other records such as: case history files, copies of applicable law(s), attorney working papers, testimony of witnesses, background investigation materials, correspondence, damage reports, contracts, accident reports, pleadings, affidavits, estimates of repair costs, invoices, financial data, and other data.

AUTHORITY FOR MAINTENANCE OF THE SYSTEM:

5 U.S.C. 552; 5 U.S.C. 552a; 5 U.S.C., Part II; and 28 U.S.C. 1291, 1346(b)(c), 1402(b), 1504, 2110, 2401(b), 2402, 2411(b), 2412(c), 2671-2680.

ROUTINE USES OF RECORDS MAINTAINED IN THE SYSTEM, INCLUDING CATEGORIES OF USERS AND THE PURPOSES OF SUCH USES:

Records are used to make determinations on tort and employee claims and for internal statistical reports. Information may be disclosed to: another Federal agency to process payments for approved claims; and the Department of Justice for review, settlement, defense, and prosecution of claims and law suits arising from those claims. The routine use statements A, B, C, E, F, and G, described in Appendix A, also apply to this system of records.

POLICIES AND PRACTICES FOR STORING, RETRIEVING, ACCESSING, RETAINING, AND DISPOSING OR RECORDS IN THE SYSTEM:

STORAGE:

Paper and electronic records.

RETRIEVABILITY:

Information may be retrieved by the individual's name or, when stored electronically, may be full-text searched and retrieved through relevant search results.

SAFEGUARDS:

During business hours, paper records are maintained in areas accessible to authorized NARA personnel. Electronic records are accessible via password-protected workstations located in attended offices or a through a secure remote access network. After business hours, buildings have security guards and/or secured doors, and all entrances are monitored by electronic surveillance equipment.

RETENTION AND DISPOSAL:

Tort and employee claim files are temporary records and are destroyed in accordance with disposition instructions in the NARA Records Schedule (a supplement to the NARA Files Maintenance and Records Disposition Manual). Individuals may request a copy of the disposition instructions from the NARA Privacy Act Officer.

SYSTEM MANAGER(S) AND ADDRESS:

The system manager is the General Counsel. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in this system of records comes from one or more of the following sources: Federal employees and private parties involved in torts and employee claims, witnesses, and doctors and other health professionals.

NARA 29 [DELETED & RESERVED]

NARA 30

SYSTEM NAME:

Garnishment Files.

SYSTEM LOCATION:

Records are located in the Office of General Counsel.

CATEGORIES OF INDIVIDUALS COVERED BY THE SYSTEM:

Individuals covered by this system include current and former NARA employees against whom a garnishment order has been filed.

CATEGORIES OF RECORDS IN THE SYSTEM:

Records in the system may contain some or all of the following information about an individual: Name, Social Security number, address or other contact information, position title and NARA unit, salary, debts, and creditors.

AUTHORITY FOR MAINTENANCE OF THE SYSTEM:

5 U.S.C. Part II; 42 U.S.C. 659; 11 U.S.C. 1325; and 5 U.S.C. 15512 to 5514, 5517, 5520.

ROUTINE USES OF RECORDS MAINTAINED IN THE SYSTEM, INCLUDING CATEGORIES OF USERS AND THE PURPOSES OF SUCH USES:

Records are used to process garnishment orders. Information is disclosed to the National Business Center, acting as NARA's payroll agent, to process withholdings for garnishments. The routine use statements E, F, and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information may be retrieved by the individual's name or, when stored electronically, may be full-text searched and retrieved through relevant search results.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Garnishment files are temporary records and are destroyed in accordance with disposition instructions in the NARA Records Schedule (a supplement to the NARA Files Maintenance and Records Disposition Manual). Individuals may request a copy of the disposition instructions from the NARA Privacy Act Officer.

SYSTEM MANAGER(S) AND ADDRESS:

The system manager is the General Counsel. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in this system of records comes from courts that have issued a garnishment order and NARA personnel records.

NARA 31

SYSTEM NAME:

Ride Share Locator Database.

SYSTEM LOCATION:

The ride share locator database is maintained by the Office of Business Support Services (Facility and Property Management Division).

CATEGORIES OF INDIVIDUALS COVERED BY THE SYSTEM:

Individuals covered by this system include NARA employees whose duty station is or may become College Park, MD, and who have expressed an interest in the NARA Ride Share Program.

CATEGORIES OF RECORDS IN THE SYSTEM:

The ride share locator database contains the following information about an individual: Name; city, county, state, and zip code of residence; NARA unit; and NARA work phone number.

AUTHORITY FOR MAINTENANCE OF THE SYSTEM:

44 U.S.C. 2104.

ROUTINE USES OF RECORDS MAINTAINED IN THE SYSTEM, INCLUDING CATEGORIES OF USERS AND THE PURPOSES OF SUCH USES:

NARA maintains the ride share locator database to provide employees with the names and residential information of other employees who have expressed an interest in sharing rides for daily commuting to the National Archives at College Park, MD. The routine use statements F and H, described in Appendix A, also apply to this system.

POLICIES AND PRACTICES FOR STORING, RETRIEVING, ACCESSING, RETAINING, AND DISPOSING OF RECORDS IN THE SYSTEM:

STORAGE:

Electronic records and paper records.

RETRIEVABILITY:

Information in the ride share locator database may be retrieved by the individual's name, city, state, and/or zip code.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Records in the ride share locator database are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system manager for the ride share locator database is the Executive for Business Support Services. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in the ride share locator database is obtained from individuals who have furnished information to the NARA Ride Share Program.

NARA 32

SYSTEM NAME:

Alternate Dispute Resolution Files.

SYSTEM LOCATION:

Alternate Dispute Resolution (ADR) files are maintained by the Office of General Counsel.

CATEGORIES OF INDIVIDUALS COVERED BY THE SYSTEM:

Individuals covered by this system include NARA staff and former staff who participate in the ADR process, the agency's Dispute Resolution Specialist and Deputy Dispute Resolution Specialist, the agency's RESOLVE contact, members of the ADR panel (representatives from the equal employment opportunity office, the diversity program, the Human Capital Office, and the local American Federation of Government Employees (AFGE) union and contractor personnel used as mediators in the ADR process.

CATEGORIES OF RECORDS IN THE SYSTEM:

ADR files may include: Written and electronic (sometimes sensitive) communication between the employee or former employee, participant representative(s), Dispute Resolution Specialist and Deputy Dispute Resolution Specialist, the agency's RESOLVE contact, members of the ADR panel, and the contracted mediator; procurement data; invoices for services; and ADR case files. The system may contain the following information about an individual: Name, home and office addresses, telephone number, social security number, dollar value of services rendered by the contractor, previous employment disputes, and the contractor's education and employment experience.

AUTHORITY FOR MAINTENANCE OF THE SYSTEM:

Public Laws 101-552 and 104-320, as amended.

ROUTINE USES OF RECORDS MAINTAINED IN THE SYSTEM, INCLUDING CATEGORIES OF USERS AND THE PURPOSES OF SUCH USES:

NARA maintains ADR files in order to facilitate the Alternative Dispute Resolution program at the agency. These records may be used by an employee or former employee in the course of resolving a dispute, by members of the dispute resolution staff facilitating dispute resolution and payment of contractors, and by the contract mediators performing services and invoicing for an ADR case. The routine use statements A, F, and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in the records may be retrieved by: The individual's name; the work site location; a numeric case file number; or the type of request.

SAFEGUARDS:

During business hours, paper records are maintained in areas accessible to authorized NARA personnel. Electronic records are accessible via password-protected workstations located in attended offices or through a secure remote access network. After hours, buildings have security guards and/or doors are secured and all entrances are monitored by electronic surveillance equipment.

RETENTION AND DISPOSAL:

Agency Alternate Dispute Resolution files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system manager for ADR program files is the General Counsel. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in the agency Alternate Dispute Resolution program files is obtained from NARA staff and former staff, participant representative(s), the dispute resolution staff, the ADR panel, and the contracted mediators.

NARA 33

SYSTEM NAME:

Development and Donor Files.

SYSTEM LOCATION:

The agency's development and donor files are maintained by the Office of Strategy and Communications (Development Staff), and the Office of Business Support Services (Office of Chief Financial Officer, National Archives Trust Fund Division).

CATEGORIES OF INDIVIDUALS COVERED BY THE SYSTEM:

Individuals covered by this system include people who donate money or other gifts to NARA, the Foundation for the National Archives, and prospective donors and other people contacted by the development staff, the Archivist of the United States, and other NARA officials.

CATEGORIES OF RECORDS IN THE SYSTEM:

Development and donor files may include: Individual's and organization's contact, biographical, and demographic information; donor background information, interests, affiliations, and giving history, including their relationship and participation with the agency and its stakeholders; prospect management data such as interests, affiliations, cultivation and solicitation of gifts, strategy reports, and talking points; information on gifts and pledges and miscellaneous information about each gift; and record of acknowledgment packages and solicitation letters, including membership cards, receipts, reminders, renewal notices, program notices, and invitations and attendance at special events.

AUTHORITY FOR MAINTENANCE OF THE SYSTEM:

44 U.S.C. 2112(g)(1) and 2305.

ROUTINE USES OF RECORDS MAINTAINED IN THE SYSTEM, INCLUDING CATEGORIES OF USERS AND THE PURPOSES OF SUCH USES:

NARA maintains development and donor files in order to facilitate the Archivist of the United State's gift solicitation and receipt authority on behalf of NARA. The information in these files may be shared, but not for redistribution, with the member (must be personal to the member, not shared between members) and staff, Foundation Board directors, and contractors of the Foundation for the National Archives, which is a non-governmental, 501(c)(3) organization that supports NARA programs and activities by soliciting, receiving, expending, and otherwise utilizing monetary donations and other gifts on behalf of NARA programs. The routine use statements A, E, F, G, and H described in Appendix A, also apply to this system of records.

POLICIES AND PRACTICES FOR STORING, RETRIEVING, ACCESSING, RETAINING, AND DISPOSING OF RECORDS IN THE SYSTEM:

STORAGE:

Paper and electronic records.

RETRIEVABILITY:

Information in the records may be retrieved by the individual's name or the organization, interest, project, or gift level with which the individual is associated.

SAFEGUARDS:

During business hours, paper records are maintained in areas accessible to authorized NARA personnel. Electronic records are accessible via password-protected workstations located in attended offices or through a secure remote access network. After hours, buildings have security guards and/or doors are secured and all entrances are monitored by electronic surveillance equipment.

RETENTION AND DISPOSAL:

Development and donor files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system managers for development and donor files are:

1. For files relating to the activities of the Foundation for the National Archives: Chief Strategy and Communications Officer; and

2. For files relating to the activities of the National Archives Trust Fund Board: Executive for Business Support Services.

The business addresses for these system managers are listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in the development and donor files is obtained from the Foundation for the National Archives and by the Center for the National Archives Experience in its daily business activities, including communications with, and cultivation and solicitation of, prospective donors and members and publicly-available NARA sources.

NARA 34

SYSTEM NAME:

Agency Ethics Program Files.

SYSTEM LOCATION:

The agency's ethics program files are maintained by the Office of General Counsel (Designated Agency Ethics Official).

CATEGORIES OF INDIVIDUALS COVERED BY THE SYSTEM:

Individuals covered by this system include NARA employees and former employees who request ethics guidance from the agency's ethics staff.

CATEGORIES OF RECORDS IN THE SYSTEM:

Ethics program files may include: Employee memoranda and correspondence, notes taken by the ethics staff, memoranda summarizing oral advice, information about outside employment, and electronic records. These files may contain the following information about an individual: Name, address, email address, position, job duties, supervisor information, telephone number, and other information collected by NGC from the employee in the course of providing ethics advice or answering employee questions.

AUTHORITY FOR MAINTENANCE OF THE SYSTEM:

Executive Orders 12674 and 12731; and 5 CFR Parts 2638 and 7601.

ROUTINE USES OF RECORDS MAINTAINED IN THE SYSTEM, INCLUDING CATEGORIES OF USERS AND THE PURPOSES OF SUCH USES:

NARA maintains ethics program files on employees to document advice and opinions provided by NGC on ethics matters, and to maintain a historical record of ethics opinions that may be used in future ethics cases. Routine use statements A, D, E, G, and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in agency ethics program files may be retrieved by the employee's name or date.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

Agency ethics program files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system manager for ethics program files is the Designated Agency Ethics Official. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in ethics program files is obtained from NARA employees, former employees, and the agency's ethics staff.

NARA 35

SYSTEM NAME:

Case Management and Reporting System (CMRS).

SYSTEM LOCATION:

This automated system includes data hosted on a dedicated server located at the National Archives in College Park, MD. Its users are located in the National Personnel Records Center (NPRC) and the National Archives at St. Louis in St. Louis, MO.

CATEGORIES OF INDIVIDUALS COVERED BY THE SYSTEM:

Individuals covered by this system include those who request information from, or access to, inactive military personnel, medical, and organizational records in the NPRC (Military Personnel Records Division) and the National Archives at St. Louis' physical custody. People who are the subjects of these inactive records are also covered. In addition, this system covers current and former Federal civilian employees whose paper personnel records have been transferred to the NPRC (Civilian Personnel Records Division) for scanning, transmission to OPM's electronic personnel (eOPF) system, and/or storage at the NPRC (Civilian Personnel Records Division) or the National Archives at St. Louis.

CATEGORIES OF RECORDS IN THE SYSTEM:

CMRS files may include: Correspondence, including administrative forms used for routine inquiries and replies, between NARA staff and requesters; stored copies of frequently requested documents from individual official military personnel files (OMPFs); production and response time data used for internal reporting purposes; and databases used to respond to requests. These files may contain some or all of the following information about an individual: Name, address, telephone number, position title, name of employer, institutional affiliation, requested records' identification numbers, Social Security number/service number, previous military assignments, and other information furnished by the requester. CMRS files may also include the name and social security number of the subject of the Federal civilian employee personnel file.

AUTHORITY FOR MAINTENANCE OF THE SYSTEM:

44 U.S.C. 2108, 2110, and 2907.

ROUTINE USES OF RECORDS MAINTAINED IN THE SYSTEM, INCLUDING CATEGORIES OF USERS AND THE PURPOSES OF SUCH USES:

NARA maintains CMRS files to: Maintain control of records being requested for either internal or external use, establish employee and requester accountability for records, prepare replies to requesters' reference questions, record the status of requesters' requests and NARA replies to those requests, and facilitate the preparation of statistical and other aggregate reports on employee performance and requester satisfaction. The routine use statements A, C, D, E, F, G, and H, described in Appendix A, also apply to this system of records.

POLICIES AND PRACTICES FOR STORING, RETRIEVING, ACCESSING, RETAINING, AND DISPOSING OF RECORDS IN THE SYSTEM:

STORAGE:

Electronic records.

RETRIEVABILITY:

Information in CMRS files may be retrieved by the subject of the record's name, or social security/military service number. By use of a querying capability, information may also be retrieved by a system-assigned request number, by a veteran's name and date of birth, and by requester-supplied information, such as name and address, phone number, or email address.

SAFEGUARDS:

During business hours, paper records are maintained in areas accessible to authorized NARA personnel. Electronic records are accessible to authorized NARA personnel via password-protected workstations located in attended offices. After business hours, buildings have security guards and/or secured doors, and all entrances are monitored by electronic surveillance equipment.

RETENTION AND DISPOSAL:

CMRS system records are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The CMRS system manager is the Director, National Personnel Records Center. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

CMRS file information is obtained from requesters, NARA employees who maintain the file, the military service or department in which the subject of the record served, and from the Federal agency with which the subject of the record was/is employed.

NARA 36

SYSTEM NAME:

Public Transit Subsidy Program (PTSP) Files

SYSTEM LOCATION:

The transit subsidy program files are maintained in the Office of Business Support Services (Facility and Property Management Division).

CATEGORIES OF INDIVIDUALS COVERED BY THE SYSTEM:

All NARA employees who have enrolled in the PTSP are covered by this system, including: Full-time employees; part-time employees; intermittent employees; temporary employees; and students.

CATEGORIES OF RECORDS IN THE SYSTEM:

PTSP files contain information on NARA employees that is used to document the distribution of transportation subsidies. These files contain information submitted by both current and non-current participants on NA Form 6041, Application—Public Transit Subsidy Program, and NA Form 6041a, Expense Worksheet. They include: Name; email address; home address; last four digits of Social Security number; NARA unit; and NARA work phone number.

AUTHORITY FOR MAINTENANCE OF THE SYSTEM:

44 U.S.C. 2104; and Executive Order 13150.

ROUTINE USES OF RECORDS MAINTAINED IN THE SYSTEM, INCLUDING CATEGORIES OF USERS AND THE PURPOSES OF SUCH USES:

NARA maintains PTSP files on individuals in order to: Provide the Department of Transportation with the names, last four digits of Social Security numbers, and addresses of NARA employees who have enrolled in the PTSP or are members of qualified vanpools; and to verify employee compliance with the rules of the program. The routine use statements A, F, and H, described in Appendix B, also apply to this system.

POLICIES AND PRACTICES FOR STORING, RETRIEVING, ACCESSING, RETAINING, AND DISPOSING OF RECORDS IN THE SYSTEM:

STORAGE:

Paper forms (NA 6041, Application—Public Transit Subsidy Program) and electronic records.

RETRIEVABILITY:

Information in PTSP files may be retrieved by the individual's name.

SAFEGUARDS:

During business hours, paper records are maintained in areas accessible to authorized NARA personnel. Electronic records are accessible to authorized personnel via password-protected workstations located in attended offices or through a secure remote access network. After business hours, buildings have security guards and/or secured doors, and all entrances are monitored by electronic surveillance equipment.

RETENTION AND DISPOSAL:

Records in the PTSP files are temporary records and are destroyed in accordance with the disposition instructions in the NARA Records Schedule (a supplement to NARA Files Maintenance and Records Disposition Manual). Individuals may request a copy of the disposition instructions from the NARA Privacy Act Officer.

SYSTEM MANAGER(S) AND ADDRESS:

The system manager for PTSP files is the Executive for Business Support Services. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

PTSP file information is obtained from individuals who have furnished information to the NARA PTSP.

NARA 37

SYSTEM NAME:

Order Online! (NARA Online Ordering System).

SYSTEM LOCATION:

Order Online! is an automated application hosted in NARA's data center in College Park, Maryland.

CATEGORIES OF INDIVIDUALS COVERED BY THE SYSTEM:

Individuals covered by this system include researchers who order reproductions of NARA archival materials at www.archives.gov.

CATEGORIES OF RECORDS IN THE SYSTEM:

Order Online! records may include: User login data (i.e., user ID and password; user profile data (e.g., name, address, phone number); credit card payment data (e.g., card type, card number, expiration date); reproduction order form data (e.g., detailed information describing the requested archival record); and transaction data (e.g., system-generated order identification information such as order number, order date, order type).

AUTHORITY FOR MAINTENANCE OF THE SYSTEM:

44 U.S.C. 2116(c), 2307, and 3504.

ROUTINE USES OF RECORDS MAINTAINED IN THE SYSTEM, INCLUDING CATEGORIES OF USERS AND THE PURPOSES OF SUCH USES:

Records maintained in the system are used only for order entry, order validation, order processing, payment processing, and order fulfillment. The public may use the Order Online! system to complete and submit a reproduction order to NARA. Each night, Order Online! submissions are sent to NARA's Order Fulfillment and Accounting System (OFAS—NARA 25) via an automated XML (extensible markup language) interface that operates within NARA's secure internal network. Order Online! maintains profile data (e.g., name, address, phone number) for researchers who initiate reproduction orders. The profile data is used to automatically complete the payment and/or shipping address sections of the order form so that customers do not have to manually re-enter the information. Neither NARA nor its agents use Order Online! customer profile data for other purposes. The routine use statements A, E, and F, described in Appendix A, apply to this system of records.

POLICIES AND PRACTICES FOR STORING, RETRIEVING, ACCESSING, RETAINING, AND DISPOSING OF RECORDS IN THE SYSTEM:

STORAGE:

Electronic records.

RETRIEVABILITY:

Information in the Order Online! records may be retrieved by the NARA customer using his or her user ID and password. Also, summary order data (order number, master number [OFAS order number]), status (e.g., received, processing, shipped, cancelled) and submission date) may be retrieved by the customer or the NARA customer service agent using the order number.

SAFEGUARDS:

Access to the data center that houses the Order Online! system is restricted to approved systems administrators and, with the exception of a limited number of operations staff, is limited to normal business hours. Electronic records are accessible only on a “need to know basis” using controlled logins and passwords from terminals located in attended offices. Credit card information is compartmentalized so that it is available only to those NARA employees responsible for posting and billing credit card transactions. The National Archives at College Park has 24-hour security guards, controlled entrances, and electronic surveillance.

RETENTION AND DISPOSAL:

Order Online! records are temporary records and are destroyed in accordance with the disposition instructions in the NARA records schedule contained in FILES 203, the NARA Files Maintenance and Records Disposition Manual. Individuals may request a copy of the disposition instructions from the NARA Privacy Act Officer.

SYSTEM MANAGER(S) AND ADDRESS:

The system manager for Order Online! records is the Executive for Research Services. The business address for this system manager is listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR part 1202.

RECORD SOURCE CATEGORIES:

Information in Order Online! records is obtained from NARA customers, employees, or agents who are involved in the order process, and General Services Administration (GSA) employees who process refunds.

NARA 38 [DELETED & RESERVED]

NARA 39

SYSTEM NAME:

Visitor Ticketing Application (VISTA) Files.

SYSTEM LOCATION:

Visitor Ticketing Application Files are maintained at individual Presidential libraries.

CATEGORIES OF INDIVIDUALS COVERED BY THE SYSTEM:

Individuals covered by this system include people who purchase tickets to Presidential libraries, serve as points of contact for groups visiting the Presidential libraries, and are invited guests to special events at the libraries.

CATEGORIES OF RECORDS IN THE SYSTEM:

VISTA files may include the following information on an individual: Name, mailing address, telephone number, email address, and credit card information.

AUTHORITY FOR MAINTENANCE OF THE SYSTEM:

44 U.S.C. 2108, 2111 note, and 2203(f)(1).

ROUTINE USES OF RECORDS MAINTAINED IN THE SYSTEM, INCLUDING CATEGORIES OF USERS AND THE PURPOSES OF SUCH USES:

NARA maintains the VISTA files on individuals to: Store information on groups that interact with the library; conduct outreach with the points of contact in these groups in order to maintain visitor levels and improve service; study visitor data over time; and store information on those attending special events. The information may be disclosed to support foundations of the Presidential libraries. The routine use statements A, C, E, F, G, and H, described in Appendix A, also apply to this system of records.

POLICIES AND PRACTICES FOR STORING, RETRIEVING, ACCESSING, RETAINING, AND DISPOSING OF RECORDS IN THE SYSTEM:

STORAGE:

Electronic records.

RETRIEVABILITY:

Information in the records may be retrieved by the individual's name or any of the other categories of information in the database.

SAFEGUARDS:

Electronic records are accessible via password-protected workstations located in attended offices or through a secure remote access network. After business hours, buildings have security guards and/or secured doors, and all entrances are monitored by electronic surveillance equipment.

RETENTION AND DISPOSAL:

The majority of VISTA files are temporary records and are destroyed in accordance with the disposition instructions in the NARA Records Schedule (a supplement to the NARA Files Maintenance and Records Disposition Manual). Credit card data files and museum admission and facility rental payment records are unscheduled records and therefore are retained until the Archivist of the United States approves dispositions.

SYSTEM MANAGER(S) AND ADDRESS:

The system managers for the VISTA files are the directors of the individual Presidential libraries. The business addresses for these system managers are listed in Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in the VISTA files is obtained from visitors and from NARA employees who maintain the files.

NARA 40

SYSTEM NAME:

The Office of Government Information Services (OGIS) Case Files.

SYSTEM LOCATION:

The OGIS case files are maintained in the Office of Agency Services (Office of Government Information Services).

CATEGORIES OF INDIVIDUALS COVERED BY THE SYSTEM:

Individuals covered by this system include people who request OGIS assistance in connection with filing a Freedom of Information Act (FOIA) or Privacy Act request or appeal to any Federal department or agency.

CATEGORIES OF RECORDS IN THE SYSTEM:

The OGIS case files include: Correspondence, case notes, FOIA and Privacy Act request letters, appeal letters, agency replies to original requests and appeals, supporting documents, research, and other administrative forms used in the process. These files may also contain information or determinations furnished by, and correspondence with, other Federal agencies. OGIS case files may contain some or all of the following information about an individual: Name, address, telephone number, email address, Federal inmate register number, research interests, other information provided by the requester and by other agencies, and copies of documents furnished to the requester.

AUTHORITY FOR MAINTENANCE OF THE SYSTEM:

5 U.S.C. 552a(a)(3), as amended.

ROUTINE USES OF RECORDS MAINTAINED IN THE SYSTEM, INCLUDING CATEGORIES OF USERS AND THE PURPOSES OF SUCH USES:

OGIS maintains case files on individuals to record: Requests for assistance, actions taken on cases, and the status of cases in logs and databases.

In addition, OGIS also serves as the FOIA Ombudsman in connection with its mission to review agency compliance with the FOIA. In this role, OGIS captures and addresses systematic problems in FOIA administration. In facilitation of this role, individual case problems may serve as one of the bases to establish current systematic trends in the process. For this function, OGIS removes personal information and uses the remaining information anonymously for statistical purposes.

OGIS may disclose information in case files to agencies that have an equity in the subject FOIA or Privacy Act request or appeal in order for those agencies to participate in informal or formal mediation efforts. The routine use statements A, E, F, G and H, described in Appendix A, also apply to this system of records.

POLICIES AND PRACTICES FOR STORING, RETRIEVING, ACCESSING, RETAINING, AND DISPOSING OF RECORDS IN THE SYSTEM:

STORAGE:

Paper and electronic records.

RETRIEVABILITY:

Information in OGIS case files may be retrieved by the individual's name or an alphanumeric case file number.

SAFEGUARDS:

OGIS case files are at all times maintained in buildings with security guards or secured doors, and all entrances are monitored by electronic surveillance equipment. During business hours, paper records are accessible only by authorized NARA personnel. Electronic records are accessible via password-protected terminals located in attended offices or via a secure remote access system. After business hours, or when OGIS personnel are not present in the offices, the OGIS offices are secured in addition to building security.

RETENTION AND DISPOSAL:

OGIS case files are temporary records and are destroyed in accordance with the disposition instructions in the NARA records schedule (a supplement to the NARA Files Maintenance and Records Disposition Manual). Individuals may request a copy of the disposition instructions from the NARA Privacy Act Officer.

SYSTEM MANAGER(S) AND ADDRESS:

For OGIS case files, the system manager is the Executive for Agency Services. The business address for this system manager is listed at Appendix B.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in OGIS case files is obtained from people who request assistance in connection with the submission of a FOIA or Privacy Act request or appeal to a Federal agency, and from agencies that have acted on the request or appeal.

NARA 41

SYSTEM NAME:

Use of Space in Presidential Libraries and Grounds Case Files.

SYSTEM LOCATION:

Use of space case files are maintained at the individual Presidential library that received the request for use.

CATEGORIES OF INDIVIDUALS COVERED BY THE SYSTEM:

Individuals covered by this system include people who request permission to use Presidential libraries and grounds and people sponsoring, promoting, conducting, or supervising activities associated with such requests.

CATEGORIES OF RECORDS IN THE SYSTEM:

Use of space case files include: Applications, correspondence, supporting documents, research, and other administrative forms used in the process. Case files may contain some or all of the following information about individuals: Names, addresses, telephone numbers, email addresses, credit card information, copies of documents furnished to the requester, and any additional information provided by the requester.

AUTHORITY FOR MAINTENANCE OF THE SYSTEM:

5 U.S.C. 552a(a)(3), as amended; and 44 U.S.C. 2104(a), as amended.

ROUTINE USES OF RECORDS MAINTAINED IN THE SYSTEM, INCLUDING CATEGORIES OF USERS AND THE PURPOSES OF SUCH USES:

NARA maintains the application forms and related information concerning applicants and other involved people, actions taken on requests, and schedules and status information concerning approved events.

POLICIES AND PRACTICES FOR STORING, RETRIEVING, ACCESSING, RETAINING, AND DISPOSING OF RECORDS IN THE SYSTEM:

STORAGE:

Paper and electronic records.

RETRIEVABILITY:

Information in these case files may be retrieved by the event's name or date.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

NARA case files are temporary records and are destroyed in accordance with the disposition instructions in the NARA Records Schedule supplement to FILES 203, the NARA Files Maintenance and Records Disposition Manual. Individuals may request a copy of the disposition instructions from the NARA Privacy Act Officer.

SYSTEM MANAGER(S) AND ADDRESS:

For these case files, the system managers are the directors of the individual Presidential libraries.

NOTIFICATION PROCEDURE:

People interested in inquiring about their records should notify the NARA Privacy Act Officer at the address listed in Appendix Bat the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORD SOURCE CATEGORIES:

Information in these case files is obtained from people who request use of the Presidential libraries and grounds and people sponsoring, promoting, conducting, or supervising activities associated with such requests.

NARA 42

SYSTEM NAME:

Contestant Application Files.

SYSTEM LOCATION:

The contestant application files are maintained in the regional archives, Presidential library, or NARA headquarters facility that organized the competition, contest, or challenge. Contestant application information may also be maintained electronically on the Web site through which the contest was conducted, such as www.challenge.gov.

CATEGORIES OF INDIVIDUALS COVERED BY THE SYSTEM:

Individuals covered by this system include people who entered contests conducted by NARA.

CATEGORIES OF RECORDS IN THE SYSTEM:

Contestant applications files may contain some or all of the following information: The user name under which the entry was submitted, name, email address, mailing address, phone number, contestant submission, prize information if one was awarded, parental or legal guardian information in the event the applicant was a minor, grant of license to use intellectual property associated with the contest submission, and any additional information provided by the contestant related to the administration of the competition.

AUTHORITY FOR MAINTENANCE OF THE SYSTEM:

5 U.S.C. 552a(a)(3), as amended, 42 U.S.C. 1861, as amended, and 44 U.S.C. 2104(a)

ROUTINE USES OF RECORDS MAINTAINED IN THE SYSTEM, INCLUDING CATEGORIES OF USERS AND THE PURPOSES OF SUCH USES:

NARA maintains contest applicant information and related information to conduct contests, competitions, and challenges. Routine uses A, B, C, D, E, F, G, and H listed in Appendix A apply to this system.

POLICIES AND PRACTICES FOR STORING, RETRIEVING, ACCESSING, RETAINING, AND DISPOSING OF RECORDS IN THE SYSTEM:

STORAGE:

Paper and electronic records.

RETRIEVABILITY:

Information in these case files may be retrieved by the contestant's user name or location, contest information, or other field provided by the electronic platform on which the contest is hosted.

SAFEGUARDS:

The case files are at all times maintained in buildings with secured doors. During business hours records are accessible by authorized NARA personnel. Electronic records are accessible via secure user names and passwords. After business hours, or when NARA personnel are not present in the offices, the paper records are secured in locked filing cabinets.

RETENTION AND DISPOSAL:

NARA contestant application files are temporary records and are destroyed in accordance with the disposition instructions in the NARA Records Schedule supplement to FILES 203, the NARA Files Maintenance and Records Disposition Manual. Individuals may request a copy of the disposition instructions from the NARA Privacy Act Officer.

SYSTEM MANAGER(S) AND ADDRESS:

For these case files, the system manager is Chief Innovation Officer. The business address for this system manager is listed in Appendix B.

NOTIFICATION PROCEDURE:

People interested in inquiring about their records should notify the NARA Privacy Act Officer at the address listed in Appendix B.

RECORDS ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORDS SOURCE CATEGORIES:

Information in these contestant application files is obtained from people who participate in contests organized by NARA.

NARA 43

SYSTEM NAME:

Internal Collaboration Network (ICN).

SYSTEM LOCATION:

ICN files are maintained electronically on servers under the control of the National Technical Information Center as part of the Department of Commerce. NTIS servers are located in Alexandria, Virginia.

CATEGORIES OF INDIVIDUALS COVERED BY THE SYSTEM:

Individuals covered by this system include all ICN users, who are solely National Archives employees.

CATEGORIES OF RECORDS IN THE SYSTEM:

ICN files may include any of the following information about users in the user profile: Name, title, department, home address, work address, home phone, work phone, mobile phone, hire date, biography, expertise, personal email, and official duty station. Users are not required to share information other than name and work email. Users may collaborate on the network to create other files including: discussion threads, interest groups, project plans, tasks, ideas, and documents.

AUTHORITY FOR MAINTENANCE OF THE SYSTEM:

5 U.S.C. 552a(a)(3), as amended, and 44 U.S.C. 2104(a), as amended.

ROUTINE USES OF RECORDS MAINTAINED IN THE SYSTEM, INCLUDING CATEGORIES OF USERS AND THE PURPOSES OF SUCH USES:

NARA maintains ICN files for the benefit and use of all ICN users to enhance communication and collaboration among all users and to facilitate the work flow among all NARA locations and offices. The routine use statements A, B, C, D, E, F, G, and H described in Appendix A apply to this system of records.

POLICIES AND PRACTICES FOR STORING, RETRIEVING, ACCESSING, RETAINING, AND DISPOSING OF RECORDS IN THE SYSTEM:

STORAGE:

Electronic records.

RETRIEVABILITY:

Information in these case files may be retrieved by keyword or the individual's name. All content is fully searchable and indexed.

SAFEGUARDS:

The files are at all times maintained in a secure network environment, in compliance with the Federal Information Management and Security Act system security requirements at a moderate-impact system level.

RETENTION AND DISPOSAL:

NARA ICN files are unscheduled at this time.

SYSTEM MANAGER(S) AND ADDRESS:

The system manager is the Chief Innovation Officer. The business address for this system manager is listed in Appendix B

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORDS SOURCE CATEGORIES:

Information in the ICN is obtained directly from the ICN users, except in cases of name and work email address, which is populated automatically by the system.

NARA 44

SYSTEM NAME:

Reasonable Accommodation Request Records.

SYSTEM LOCATION:

Reasonable accommodation request files are maintained in the Office of Equal Employment Opportunity. Files may also be maintained in the Office of Human Capital (Labor/Employee Relations and Benefit Branch).

CATEGORIES OF INDIVIDUALS COVERED BY THE SYSTEM:

Individuals covered by this system include current and former NARA employees and applicants who request reasonable accommodation under the Rehabilitation Act, and any family member, health professional, or other person making such a request as a representative of a NARA employee or applicant.

CATEGORIES OF RECORDS IN THE SYSTEM:

Reasonable accommodation request records may contain some or all of the following records: Requests for reasonable accommodation, including medical records, notes, or records made during consideration of requests; and decisions on requests. These records may contain: The employee or applicant's name, email address, mailing address, phone number, medical information, and any additional information provided by the employee related to processing the request. If an accommodation request is made by a family member, health professional, or other representative of a NARA employee or applicant, the records may also contain the requestor's name, email address, mailing address, phone number, and any additional information provided by the requestor related to processing the request.

AUTHORITY FOR MAINTENANCE OF THE SYSTEM:

5 U.S.C. 552a(a)(3), as amended, 29 U.S.C. 791, 44 U.S.C. 2104(a), as amended, the Americans with Disabilities Act of 1990, as amended, Executive Order 13164, and 29 CFR Part 1614.

ROUTINE USES OF RECORDS MAINTAINED IN THE SYSTEM, INCLUDING CATEGORIES OF USERS AND THE PURPOSES OF SUCH USES:

Routine uses A, B, C, D, E, F, G, and H listed in Appendix A apply to this system.

POLICIES AND PRACTICES FOR STORING, RETRIEVING, ACCESSING, RETAINING, AND DISPOSING OF RECORDS IN THE SYSTEM:

STORAGE:

Paper and electronic records.

RETRIEVABILITY:

Information in these case files may be retrieved by the employee or applicant's name, or request number.

SAFEGUARDS:

During business hours, paper records are maintained in areas accessible to authorized NARA personnel. Electronic records are accessible via password-protected workstations located in attended offices or through a secure remote access network. After business hours, buildings have security guards and/or secured doors, and all entrances are monitored by electronic surveillance equipment.

RETENTION AND DISPOSAL:

NARA reasonable accommodation request records are temporary records and are destroyed in accordance with the disposition instructions in the NARA Records Schedule supplement to FILES 203, the NARA Files Maintenance and Records Disposition Manual. Individuals may request a copy of the disposition instructions from the NARA Privacy Act Officer.

SYSTEM MANAGER AND ADDRESS:

1. For reasonable accommodation files located in the EEO office: Director, Office of Equal Employment Opportunity; and

2. For reasonable accommodation files located in the Labor and Employee Relations Branch: Chief Human Capital Officer.

The business address for these system managers are listed at Appendix B.

NOTIFICATION PROCEDURE:

Individuals interested in inquiring about their records should notify the NARA Privacy Act Officer at the Privacy Act Office, Room 3110, National Archives and Records Administration, 8601 Adelphi Road, College Park, MD 20740-6001.

NOTIFICATION PROCEDURE:

People interested in inquiring about their records should notify the NARA Privacy Act Officer at the address listed in Appendix B.

RECORD ACCESS PROCEDURES:

People who wish to access their records should submit a request in writing to the NARA Privacy Act Officer at the address listed in Appendix B.

CONTESTING RECORD PROCEDURES:

NARA rules for contesting the contents of a person's records and appealing initial determinations are found in 36 CFR Part 1202.

RECORDS SOURCE CATEGORIES:

Information in these reasonable accommodation files is obtained from NARA employees and applicants who request reasonable accommodation under the Rehabilitation Act, any family member, health professional, or other person making such a request as a representative of a NARA employee or applicant, and any health professional or other person providing information on behalf of a NARA employee or applicant.

Appendix A

The following routine use statements will apply to National Archives and Records Administration notices where indicated:

A. Routine Use—Law Enforcement: In the event that a system of records maintained by this agency to carry out its functions indicates a violation or potential violation of law, whether civil, criminal or regulatory in nature, and whether arising by general statute or particular program statute, or by regulation, rule or order issued pursuant thereto, the relevant records in the system of records, may be referred, as a routine use, to the appropriate agency, whether Federal, State, local, or foreign, charged with the responsibility of investigating or prosecuting such violation or charged with enforcing or implementing the statute, or rule, regulation or order issued pursuant thereto.

B. Routine Use—Disclosure When Requesting Information: A record from this system of records may be disclosed as a routine use to a Federal, State, or local agency maintaining civil, criminal or other relevant enforcement information or other pertinent information, such as current licenses, if necessary, to obtain information relevant to an agency decision concerning the hiring or retention of an employee, the issuance of a security clearance, the letting of a contract, or the issuance of a license, grant, or other benefit.

C. Routine Use—Disclosure of Requested Information: A record from this system of records may be disclosed to a Federal agency, in response to its request, in connection with the hiring or retention of an employee, the issuance of a security clearance, conducting a security or suitability investigation, classifying a job, the reporting of an investigation of an employee, the letting of a contract, or the issuance of a license, grant, or other benefit by the requesting agency, to the extent that the information is relevant and necessary to the requesting agency's decision on the matter.

D. Routine Use—Grievance, Complaint, Appeal: A record from this system of records may be disclosed to an authorized appeal or grievance examiner, formal complaints examiner, equal employment opportunity investigator, arbitrator, or other duly authorized official engaged in investigation or settlement of a grievance, complaint, or appeal filed by an employee. A record from this system of records may be disclosed to the United States Office of Personnel Management, the Merit Systems Protection Board, Federal Labor Relations Authority, or the Equal Employment Opportunity Commission when requested in the performance of their authorized duties. To the extent that official personnel records in the custody of NARA are covered within the system of records published by the Office of Personnel Management as Government wide records, those records will be considered as a part of that Government wide system. Other records covered by notices published by NARA and considered to be separate systems of records may be transferred to the Office of Personnel Management in accordance with official personnel programs and activities as a routine use.

E. Routine Use—Congressional Inquiries: A record from this system of records may be disclosed as a routine use to a Member of Congress or to a Congressional staff member in response to an inquiry of the Congressional office made at the request of the individual about whom the record is maintained.

F. Routine Use—NARA Agents: A record from this system of records may be disclosed as a routine use to an expert, consultant, agent, or a contractor of NARA to the extent necessary for them to assist NARA in the performance of its duties. Agents include, but are not limited to, GSA or other entities supporting NARA's payroll, finance, and personnel responsibilities.

G. Routine Use—Department of Justice/Courts: A record from this system of records may be disclosed to the Department of Justice or in a proceeding before a court or adjudicative body before which NARA is authorized to appear, when: (a) NARA, or any component thereof; or, (b) any employee of NARA in his or her official capacity; or, (c) any employee of NARA in his or her individual capacity where the Department of Justice or NARA has agreed to represent the employee; or (d) the United States, where NARA determines that litigation is likely to affect the agency or any of its components, is a party to litigation or has an interest in such litigation, and the use of such records by the Department of Justice or by NARA before a court or adjudicative body is deemed by NARA to be relevant and necessary to the litigation, provided, however, that in each case, NARA determines that disclosure of the records is a use of the information contained in the records that is compatible with the purpose for which the records were collected.

H. Routine Use—Data breach: A record from this system of records may be disclosed to appropriate agencies, entities, and persons when (1) it is suspected or confirmed that the security or confidentiality of information in the system of records has been compromised; (2) NARA has determined that as a result of the suspected or confirmed compromise there is a risk of harm to economic or property interests, identity theft or fraud, or harm to the security or integrity of this system or other systems or programs (whether maintained by NARA of another agency or entity) that rely upon the compromised information; and (3) the disclosure is made to such agencies, entities, and persons who are reasonably necessary to assist in connection with NARA's efforts to respond to the suspected or confirmed compromise and prevent, minimize, or remedy such harm.

Appendix B

Records inquiries and requests:

To inquire about your records or to gain access to your records, you should submit your request in writing to: NARA Privacy Act Officer; Office of the General Counsel (NGC); National Archives and Records Administration; 8601 Adelphi Road, Room 3110; College Park, MD 20740-6001.

System managers:

If the system manager is the Chief Human Capital Officer, the business address is: Office of Human Capital; National Archives and Records Administration; 8601 Adelphi Road, Room 1200; College Park, MD 20740-6001.

If the system manager is the Chief Information Officer, the business address is: Office of Information Services; National Archives and Records Administration; 8601 Adelphi Road, Room 4400; College Park, MD 20740-6001.

If the system manager is the Chief Innovation Officer, the business address is: Office of Innovation; National Archives and Records Administration; 8601 Adelphi Road, Room 3200; College Park, MD 20740-6001.

If the system manager is the Chief Records Officer, the business address is: Office of the Chief Records Officer; National Archives and Records Administration; 8601 Adelphi Road, Room 2100; College Park, MD 20740.

If the system manager is the Chief Strategy and Communications Officer, the business address is: Office of Strategy and Communications; National Archives and Records Administration; 8601 Adelphi Road, Room 4100; College Park, MD 20740-6001.

If the system manager is the Designated Agency Ethics Official, the business address is: Office of the General Counsel; National Archives and Records Administration; 8601 Adelphi Road, Room 3110; College Park, MD 20740-6001.

If the system manager is the Director, National Personnel Records Center, the business address is: National Personnel Records Center, 1 Archives Drive, St. Louis, MO 63138.

If the system manager is the director of an individual Presidential library, the business address is the relevant Presidential library:

George H.W. Bush Library, 1000 George Bush Drive West, College Station, TX 77845.

George W. Bush Library, 2943 SMU Boulevard, Dallas, TX 75205.

Jimmy Carter Library, 441 Freedom Parkway, Atlanta, GA 30307-1498.

William J. Clinton Library, 1200 President Clinton Avenue, Little Rock, AR 72201.

Dwight D. Eisenhower Library, 200 SE 4th Street, Abilene, KS 67410-2900.

Gerald R. Ford Library, 1000 Beal Avenue, Ann Arbor, MI 48109-2114.

Herbert Hoover Library, 210 Parkside Drive, P.O. Box 488, West Branch, IA 52358-0488.

Lyndon B. Johnson Library, 2313 Red River Street, Austin, TX 78705-5702.

John F. Kennedy Library, Columbia Point, Boston, MA 02125-3398.

Richard Nixon Library, 1800 Yorba Linda Boulevard, Yorba Linda, CA 92886.

Ronald Reagan Library, 40 Presidential Drive, Simi Valley, CA 93065-0600.

Franklin D. Roosevelt Library, 4079 Albany Post Road, Hyde Park, NY 12538-1999.

Harry S. Truman Library, 500 West U.S. Highway 24, Independence, MO 64050-1798.

If the system manager is the Director, Office of Equal Employment Opportunity, the business address is: Office of Equal Employment Opportunity, National Archives and Records Administration, 8601 Adelphi Road, Room 3310, College Park, MD 20740-6001.

If the system manager is the Director of the Center for Legislative Archives, the business address is: The Center for Legislative Archives, National Archives and Records Administration, 700 Pennsylvania Ave. NW., Washington, DC 20408-0001.

If the system manager is the Director of the Federal Register, the business address is: Office of the Federal Register, National Archives and Records Administration, 800 North Capitol Street NW., Washington, DC 20002.

If the system manager is the Director of the Office of Presidential Libraries, the business address is the Office of Presidential Libraries, National Archives and Records Administration, 8601 Adelphi Road, Room 2200, College Park, MD 20740-6001.

If the system manager is the Director of the Presidential Materials Division, the business address is: Presidential Materials Division, National Archives and Records Administration, 700 Pennsylvania Ave. NW., Room 104, Washington, DC 20408-0001.

If the system manager is the Director of the Washington National Records Center, the records are located at the following address: Washington National Records Center, National Archives and Records Administration, 4205 Suitland Road, Suitland, MD 20746-8001.

If the system manager is the Executive Director of the National Historical Publications and Records Commission, the business address is: National Historical Publications and Records Commission, National Archives and Records Administration, 700 Pennsylvania Avenue NW., Room 114, Washington, DC 20408-0001.

If the system manager is the Executive for Agency Services, the business address is: Office of Agency Services, National Archives and Records Administration, 8601 Adelphi Road, Room 3600, College Park, MD 20740-6001.

If the system manager is the Executive for Business Support Services, the business address is: Office of Business Support Services, National Archives and Records Administration, 8601 Adelphi Road, Room 5100, College Park, MD 20740-6001.

If the system manager is the Executive for Information Services, the business address is: Office of Information Services, National Archives and Records Administration, 8601 Adelphi Road, Room 4400, College Park, MD 20740-6001.

If the system manager is the Executive for Legislative Archives, Presidential Libraries, and Museum Services, the business address is the Office of Legislative Archives, Presidential Libraries, and Museum Services, National Archives and Records Administration, 700 Pennsylvania Avenue NW., Room 104, Washington, DC 20408-0001.

If the system manager is the Executive for Research Services, the business address is: Office of Research Services, National Archives and Records Administration, 8601 Adelphi Road, Room 3400, College Park, MD 20740-6001.

If the system manager is the General Counsel, the business address is: Office of the General Counsel, National Archives and Records Administration, 8601 Adelphi Road, Room 3110, College Park, MD 20740-6001.

If the system manager is the Inspector General, the business address is: Office of the Inspector General, National Archives and Records Administration, 8601 Adelphi Road, Room 1300, College Park, MD 20740-6001.

[FR Doc. 2013-30311 Filed 12-19-13; 8:45 am]

BILLING CODE 7515-01-P